DEPARTMENT OF COMMERCE

National Oceanic and Atmospheric Administration

50 CFR Part 679

[Docket No. 121018563-3148-02]

RIN 0648-XC311

Fisheries of the Exclusive Economic Zone Off Alaska; Bering Sea and Aleutian Islands; 2013 and 2014 Harvest Specifications for Groundfish

AGENCY: National Marine Fisheries Service (NMFS), National Oceanic and Atmospheric Administration (NOAA), Commerce.

ACTION: Final rule; closures.

SUMMARY: NMFS announces final 2013 and 2014 harvest specifications and prohibited species catch allowances for the groundfish fishery of the Bering Sea and Aleutian Islands management area (BSAI). This action is necessary to establish harvest limits for groundfish during the 2013 and 2014 fishing years, and to accomplish the goals and objectives of the Fishery Management Plan for Groundfish of the BSAI (FMP). The intended effect of this action is to conserve and manage the groundfish resources in the BSAI in accordance with the Magnuson-Stevens Fishery Conservation and Management Act (Magnuson-Stevens Act).

DATES: Effective from 1200 hrs, Alaska local time (A.l.t.), March 1, 2013, through 2400 hrs, A.l.t., December 31, 2014.

ADDRESSES: Electronic copies of the Final Alaska Groundfish Harvest Specifications Environmental Impact Statement (EIS), Record of Decision (ROD), Supplementary Information Report (SIR) to the EIS, and the Final Regulatory Flexibility Analysis (FRFA), prepared for this action are available from http://alaskafisheries.noaa.gov. The final 2012 Stock Assessment and Fishery Evaluation (SAFE) report for the groundfish resources of the BSAI, dated November 2012, as well as the SAFE reports for previous years, are available from the North Pacific Fishery Management Council (Council) at 605 West 4th Avenue, Suite 306, Anchorage, AK 99510-2252, phone 907-271-2809, or from the Council's Web site at http://alaskafisheries.noaa.gov/npfmc.

FOR FURTHER INFORMATION CONTACT: Steve Whitney, 907-586-7228.

SUPPLEMENTARY INFORMATION: Federal regulations at 50 CFR part 679 implement the FMP and govern the groundfish fisheries in the BSAI. The Council prepared the FMP, and NMFS approved it under the Magnuson-Stevens Act. General regulations governing U.S. fisheries also appear at 50 CFR part 600.

The FMP and its implementing regulations require NMFS, after consultation with the Council, to specify the total allowable catch (TAC) for each target species; the sum TAC for all groundfish species must be within the optimum yield (OY) range of 1.4 million to 2.0 million metric tons (mt) (see § 679.20(a)(1)(i)). This final rule specifies the TAC at 2.0 million mt for both 2013 and 2014. NMFS also must specify apportionments of TAC, prohibited species catch (PSC) allowances, and prohibited species quota (PSQ) reserves established by § 679.21; seasonal allowances of pollock, Pacific cod, and Atka mackerel TAC; Amendment 80 allocations; and Community Development Quota (CDQ) reserve amounts established by § 679.20(b)(1)(ii). The final harvest specifications set forth in Tables 1 through 22 of this action satisfy these requirements.

Section 679.20(c)(3)(i) further requires NMFS to consider public comment on the proposed annual TACs (and apportionments thereof) and PSC allowances, and to publish final harvest specifications in the Federal Register. The proposed 2013 and 2014 harvest specifications and PSC allowances for the groundfish fishery of the BSAI were published in the Federal Register on December 6, 2012 (77 FR 72791). Comments were invited and accepted through January 7, 2013. NMFS received two letters with five comments on the proposed harvest specifications. These comments are summarized and responded to in the “Response to Comments” section of this rule. NMFS consulted with the Council on the final 2013 and 2014 harvest specifications during the December 2012 Council meeting in Anchorage, AK. After considering public comments, as well as biological and economic data that were available at the Council's December meeting, NMFS is implementing the final 2013 and 2014 harvest specifications as recommended by the Council.

Acceptable Biological Catch (ABC) and TAC Harvest Specifications

The final ABC levels for Alaska groundfish are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available while Tier 6 represents the lowest.

In December 2012, the Scientific and Statistical Committee (SSC), Advisory Panel (AP), and Council reviewed current biological information about the condition of the BSAI groundfish stocks. The Council's Plan Team compiled and presented this information in the 2012 SAFE report for the BSAI groundfish fisheries, dated November 2012. The SAFE report contains a review of the latest scientific analyses and estimates of each species' biomass and other biological parameters, as well as summaries of the available information on the BSAI ecosystem and the economic condition of groundfish fisheries off Alaska. NMFS notified the public and asked for review of the SAFE report in the notice of proposed harvest specifications; the report is still available (see ADDRESSES). From these data and analyses, the Plan Team estimated an OFL and ABC for each species or species category.

In December 2012, the SSC, AP, and Council reviewed the Plan Team's recommendations. Except for rougheye rockfish, the SSC concurred with the Plan Team's recommendations, and the Council adopted the OFL and ABC amounts recommended by the SSC (Table 1). For 2013 and 2014, the SSC recommended lower rougheye rockfish OFLs and ABCs than the OFLs and ABCs recommended by the Plan Team. For rougheye rockfish, the SSC recommended including the estimated recruitment from the 1998 through 2009 time period to calculate the OFLs and ABCs, resulting in lower amounts. The final TAC recommendations were based on the ABCs as adjusted for other biological and socioeconomic considerations, including maintaining the sum of the TACs within the required OY range of 1.4 million to 2.0 million mt. As required by annual catch limit rules for all fisheries (74 FR 3178, January 16, 2009), none of the Council's recommended TACs for 2013 or 2014 exceeds the final 2013 or 2014 ABCs for any species category. The final 2013 and 2014 harvest specifications approved by the Secretary of Commerce are unchanged from those recommended by the Council and are consistent with the preferred harvest strategy alternative in the EIS (see ADDRESSES). NMFS finds that the Council's recommended OFLs, ABCs, and TACs are consistent with the biological condition of groundfish stocks as described in the 2012 SAFE report that was approved by the Council.

Changes From the Proposed 2013 and 2014 Harvest Specifications for the BSAI

In October 2012, the Council proposed its recommendations for the 2013 and 2014 harvest specifications (77 FR 72791, December 6, 2012), based largely on information contained in the 2011 SAFE report for the BSAI groundfish fisheries. Through the proposed harvest specifications, NMFS notified the public that these harvest specifications could change, as the Council would consider information contained in the final 2012 SAFE report, recommendations from the SSC, Plan Team, and AP committees, and public testimony when making its recommendations for final harvest specification at the December Council meeting. NMFS further notified the public that, as required by the FMP and its implementing regulations, the sum of the TACs must be within the OY range of 1.4 million and 2.0 million mt.

Information contained in the 2012 SAFE reports indicates biomass changes for several groundfish species from the 2011 SAFE reports. At the December 2012 Council meeting, the SSC recommended the 2013 and 2014 ABCs for many species based on the best and most recent information contained in the 2012 SAFE reports. This recommendation resulted in an ABC sum total for all BSAI groundfish species in excess of 2 million mt for both 2013 and 2014. Based on the SSC ABC recommendations and the 2012 SAFE reports, the Council recommends increasing Bering Sea pollock by 45,100 mt. In terms of percentage, the largest increases in TACs were for BSAI squid and BSAI Pacific ocean perch. Both of these species are valuable, and likely to be harvested to the full TAC available. The Council increased the squid TAC due to increased incidental catch in 2012, and increased the Pacific ocean perch TACs due to higher ABCs, resulting from larger biomass estimates. Conversely, the SSC decreased the OFL and ABC of BSAI Atka mackerel from the proposed OFL and ABC, and these reductions led to the largest decrease in TAC in terms of tonnage. In terms of percentage change from the proposed TACs, Bogoslof pollock and BSAI Greenland turbot had the largest decreases in TAC. These decreases are due to lower incidental catches of Bogoslof pollock in 2012, and lower biomass estimates of Greenland turbot. The TACs for shortraker rockfish and rougheye rockfish were also decreased because of smaller OFLs and ABCs resulting from lower biomass estimates. The TACS for octopuses, sharks, “other rockfish,” northern rockfish, Alaska plaice, flathead sole, and Kamchatka flounder were all decreased because harvests in 2012 were much less than the proposed 2013 TACs. The changes to TAC between the proposed and final harvest specifications are based on the most recent scientific and economic information and are consistent with the FMP, regulatory obligations, and harvest strategy as described in the proposed harvest specifications. These changes are compared in Table 1A.

Table 1 lists the Council's recommended final 2013 and 2014 OFL, ABC, TAC, ITAC, and CDQ reserve amounts of the BSAI groundfish. NMFS concurs in these recommendations. The final 2013 and 2014 TAC recommendations for the BSAI are within the OY range established for the BSAI and do not exceed the ABC for any species or species group. The apportionment of TAC amounts among fisheries and seasons is discussed below.

Table 1—Final 2013 and 2014 Overfishing Level (OFL), Acceptable Biological Catch (ABC), Total Allowable Catch (TAC), Initial TAC (ITAC), and CDQ Reserve Allocation of Groundfish in the BSAI ¹
[Amounts are in metric tons]
Species | Area | 2013: OFL | 2013: ABC | 2013: TAC | 2013: ITAC ² | 2013: CDQ ³ | 2014: OFL | 2014: ABC | 2014: TAC | 2014: ITAC ² | 2014: CDQ ³
Pollock ⁴ | BS | 2,550,000 | 1,375,000 | 1,247,000 | 1,122,300 | 124,700 | 2,730,000 | 1,430,000 | 1,247,000 | 1,122,300 | 124,700
| AI | 45,600 | 37,300 | 19,000 | 17,100 | 1,900 | 48,600 | 39,800 | 19,000 | 17,100 | 1,900
| Bogoslof | 13,400 | 10,100 | 100 | 500 | 0 | 13,400 | 10,100 | 100 | 500 | 0
Pacific cod ⁵ | BSAI | 359,000 | 307,000 | 260,000 | 232,180 | 27,820 | 379,000 | 323,000 | 260,880 | 232,966 | 27,914
Sablefish | BS | 1,870 | 1,580 | 1,580 | 1,304 | 217 | 1,760 | 1,480 | 1,480 | 629 | 56
| AI | 2,530 | 2,140 | 2,140 | 1,739 | 361 | 2,370 | 2,010 | 2,010 | 427 | 38
Atka mackerel | BSAI | 57,700 | 50,000 | 25,920 | 23,147 | 2,773 | 56,500 | 48,900 | 25,379 | 22,663 | 2,716
| EAI/BS | n/a | 16,900 | 16,900 | 15,092 | 1,808 | n/a | 16,500 | 16,500 | 14,735 | 1,766
| CAI | n/a | 16,000 | 7,520 | 6,715 | 805 | n/a | 15,700 | 7,379 | 6,589 | 790
| WAI | n/a | 17,100 | 1,500 | 1,340 | 161 | n/a | 16,700 | 1,500 | 1,340 | 161
Yellowfin sole | BSAI | 220,000 | 206,000 | 198,000 | 176,814 | 21,186 | 219,000 | 206,000 | 198,000 | 176,814 | 21,186
Rock sole | BSAI | 241,000 | 214,000 | 92,380 | 82,495 | 9,885 | 229,000 | 204,000 | 92,000 | 82,156 | 9,844
Greenland turbot | BSAI | 2,540 | 2,060 | 2,060 | 1,751 | n/a | 3,270 | 2,650 | 2,650 | 2,253 | n/a
| BS | n/a | 1,610 | 1,610 | 1,369 | 172 | n/a | 2,070 | 2,070 | 1,760 | 221
| AI | n/a | 450 | 450 | 383 | 0 | n/a | 580 | 580 | 493 | 0
Arrowtooth flounder | BSAI | 186,000 | 152,000 | 25,000 | 21,250 | 2,675 | 186,000 | 152,000 | 25,000 | 21,250 | 2,675
Kamchatka flounder | BSAI | 16,300 | 12,200 | 10,000 | 8,500 | 0 | 16,300 | 12,200 | 10,000 | 8,500 | 0
Flathead sole ⁶ | BSAI | 81,500 | 67,900 | 22,699 | 20,270 | 2,429 | 80,100 | 66,700 | 22,543 | 20,131 | 2,412
Other flatfish ⁷ | BSAI | 17,800 | 13,300 | 3,500 | 2,975 | 0 | 17,800 | 13,300 | 4,000 | 3,400 | 0
Alaska plaice | BSAI | 67,000 | 55,200 | 20,000 | 17,000 | 0 | 60,200 | 55,800 | 20,000 | 17,000 | 0
Pacific ocean perch | BSAI | 41,900 | 35,100 | 35,100 | 30,995 | n/a | 39,500 | 33,100 | 33,100 | 29,228 | n/a
| BS | n/a | 8,130 | 8,130 | 6,911 | 0 | n/a | 7,680 | 7,680 | 6,528 | 0
| EAI | n/a | 9,790 | 9,790 | 8,742 | 1,048 | n/a | 9,240 | 9,240 | 8,251 | 989
| CAI | n/a | 6,980 | 6,980 | 6,233 | 747 | n/a | 6,590 | 6,590 | 5,885 | 705
| WAI | n/a | 10,200 | 10,200 | 9,109 | 1,091 | n/a | 9,590 | 9,590 | 8,564 | 1,026
Northern rockfish | BSAI | 12,200 | 9,850 | 3,000 | 2,550 | 0 | 12,000 | 9,320 | 3,000 | 2,550 | 0
Shortraker rockfish | BSAI | 493 | 370 | 370 | 315 | 0 | 493 | 370 | 370 | 315 | 0
Rougheye rockfish ⁸ | BSAI | 462 | 378 | 378 | 321 | 0 | 524 | 429 | 429 | 365 | 0
| EBS/EAI | n/a | 169 | 169 | 144 | 0 | n/a | 189 | 189 | 161 | 0
| CAI/WAI | n/a | 209 | 209 | 178 | 0 | n/a | 240 | 240 | 204 | 0
Other rockfish ⁹ | BSAI | 1,540 | 1,159 | 873 | 742 | 0 | 1,540 | 1,159 | 1,159 | 985 | 0
| BS | n/a | 686 | 400 | 340 | 0 | n/a | 686 | 686 | 583 | 0
| AI | n/a | 473 | 473 | 402 | 0 | n/a | 473 | 473 | 402 | 0
Skates | BSAI | 45,800 | 38,800 | 24,000 | 20,400 | 0 | 44,100 | 37,300 | 25,000 | 21,250 | 0
Sculpins | BSAI | 56,400 | 42,300 | 5,600 | 4,760 | 0 | 56,400 | 42,300 | 5,600 | 4,760 | 0
Sharks | BSAI | 1,360 | 1,020 | 100 | 85 | 0 | 1,360 | 1,020 | 100 | 85 | 0
Squids | BSAI | 2,620 | 1,970 | 700 | 595 | 0 | 2,620 | 1,970 | 700 | 595 | 0
Octopuses | BSAI | 3,450 | 2,590 | 500 | 425 | 0 | 3,450 | 2,590 | 500 | 425 | 0
TOTAL |  | 4,028,465 | 2,639,317 | 2,000,000 | 1,790,512 | 197,004 | 4,205,287 | 2,697,498 | 2,000,000 | 1,788,646 | 196,381
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A)(1), the annual BS subarea pollock TAC after subtracting first for the CDQ directed fishing allowance (10 percent) and second for the incidental catch allowance (4.0 percent), is further allocated by sector for a directed pollock fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (1,600 mt) is allocated to the Aleut Corporation for a directed pollock fishery.
⁵ The Pacific cod TAC is reduced by 3 percent from the ABC to account for the State of Alaska's (State) guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, dark rockfish, shortraker rockfish, and rougheye rockfish.
Note: Regulatory areas and districts are defined at § 679.2 (BS = Bering Sea subarea, AI = Aleutian Islands subarea, EAI = Eastern Aleutian Islands district, CAI = Central Aleutian Islands district, WAI = Western Aleutian Islands district.)

Table 1A—Comparison of Final 2013 and 2014 With Proposed 2013 and 2014 Total Allowable Catch in the BSAI
[Amounts are in metric tons]
Species | Area ¹ | 2013 Final TAC | 2013 Proposed TAC | 2013 Difference from proposed | 2014 Final TAC | 2014 Proposed TAC | 2014 Difference from proposed
Pollock | BS | 1,247,000 | 1,201,900 | 45,100 | 1,247,000 | 1,201,900 | 45,100
| AI | 19,000 | 19,000 | 0 | 19,000 | 19,000 | 0
| Bogoslof | 100 | 500 | −400 | 100 | 500 | −400
Pacific cod | BSAI | 260,000 | 262,900 | −2,900 | 260,880 | 262,900 | −2,020
Sablefish | BS | 1,580 | 2,200 | −620 | 1,480 | 2,200 | −720
| AI | 2,140 | 2,020 | 120 | 2,010 | 2,020 | −10
Atka mackerel | EAI/BS | 16,900 | 31,700 | −14,800 | 16,500 | 31,700 | −15,200
| CAI | 7,520 | 8,883 | −1,363 | 7,379 | 8,883 | −1,504
| WAI | 1,500 | 1,500 | 0 | 1,500 | 1,500 | 0
Yellowfin sole | BSAI | 198,000 | 203,900 | −5,900 | 198,000 | 203,900 | −5,900
Rock sole | BSAI | 92,380 | 87,000 | 5,380 | 92,000 | 87,000 | 5,000
Greenland turbot | BS | 1,610 | 6,010 | −4,400 | 2,070 | 6,010 | −3,940
| AI | 450 | 2,020 | −1,570 | 580 | 2,020 | −1,440
Arrowtooth flounder | BSAI | 25,000 | 25,000 | 0 | 25,000 | 25,000 | 0
Kamchatka flounder | BSAI | 10,000 | 17,700 | −7,700 | 10,000 | 17,700 | −7,700
Flathead sole | BSAI | 22,699 | 34,134 | −11,435 | 22,543 | 34,134 | −11,591
Other flatfish | BSAI | 3,500 | 3,200 | 300 | 4,000 | 3,200 | 800
Alaska plaice | BSAI | 20,000 | 24,000 | −4,000 | 20,000 | 24,000 | −4,000
Pacific ocean perch | BS | 8,130 | 6,540 | 1,590 | 7,680 | 6,540 | 1,140
| EAI | 9,790 | 6,440 | 3,350 | 9,240 | 6,440 | 2,800
| CAI | 6,980 | 5,710 | 1,270 | 6,590 | 5,710 | 880
| WAI | 10,200 | 9,610 | 590 | 9,590 | 9,610 | −20
Northern rockfish | BSAI | 3,000 | 4,700 | −1,700 | 3,000 | 4,700 | −1,700
Shortraker rockfish | BSAI | 370 | 393 | −23 | 370 | 393 | −23
Rougheye rockfish | BS/EAI | 169 | 241 | −72 | 189 | 241 | −52
| CAI/WAI | 209 | 258 | −49 | 240 | 258 | −18
Other rockfish | BS | 400 | 500 | −100 | 686 | 500 | 186
| AI | 473 | 570 | −97 | 473 | 570 | −97
Skates | BSAI | 24,000 | 24,746 | −746 | 25,000 | 24,746 | 254
Sculpins | BSAI | 5,600 | 5,200 | 400 | 5,600 | 5,200 | 400
Sharks | BSAI | 100 | 200 | −100 | 100 | 200 | −100
Squids | BSAI | 700 | 425 | 275 | 700 | 425 | 275
Octopuses | BSAI | 500 | 900 | −400 | 500 | 900 | −400
TOTAL | BSAI | 2,000,000 | 2,000,000 | 0 | 2,000,000 | 2,000,000 | 0
¹ Bering Sea subarea (BS), Aleutian Islands subarea (AI), Bering Sea and Aleutian Islands management area (BSAI), Eastern Aleutian District (EAI), Central Aleutian District (CAI), and Western Aleutian District (WAI).

Groundfish Reserves and the Incidental Catch Allowance (ICA) for Pollock, Atka Mackerel, Flathead Sole, Rock Sole, Yellowfin Sole, and Aleutian Islands Pacific Ocean Perch

Section 679.20(b)(1)(i) requires NMFS to reserve 15 percent of the TAC for each target species, except for pollock, hook-and-line and pot gear allocation of sablefish, and Amendment 80 species, in a non-specified reserve. Section 679.20(b)(1)(ii)(B) requires that 20 percent of the hook-and-line and pot gear allocation of sablefish be set aside for the fixed-gear sablefish CDQ reserve. Section 679.20(b)(1)(ii)(D) requires NMFS to allocate 7.5 percent of the trawl gear allocations of sablefish and 10.7 percent of the Bering Sea Greenland turbot and arrowtooth flounder TACs to the respective CDQ reserves. Under section 679.20(b)(1)(ii)(C), NMFS must allocate 10.7 percent of the TAC for Atka mackerel, Aleutian Islands Pacific ocean perch, yellowfin sole, rock sole, flathead sole, and Pacific cod to the CDQ reserves. Sections 679.20(a)(5)(i)(A) and 679.31(a) also require that 10 percent of the BSAI pollock TAC be allocated to the pollock CDQ directed fishing allowance (DFA). The entire Bogoslof District pollock TAC is allocated as an ICA (see § 679.20(a)(5)(ii)). With the exception of the hook-and-line and pot gear sablefish CDQ reserve, the regulations do not further apportion the CDQ allocations by gear.

Pursuant to § 679.20(a)(5)(i)(A)(1), NMFS allocates a pollock ICA of 3 percent of the BS subarea pollock TAC after subtracting the 10 percent CDQ reserve. This allowance is based on NMFS' examination of the pollock incidental catch, including the incidental catch by CDQ vessels, in target fisheries other than pollock from 1999 through 2012. During this 14-year period, the pollock incidental catch ranged from a low of 2.3 percent in 2012 to a high of 5 percent in 1999, with a 14-year average of 3.2 percent. Pursuant to § 679.20(a)(5)(iii)(B)(2)(i) and (ii), NMFS establishes a pollock ICA of 1,600 mt of the AI subarea TAC after subtracting the 10-percent CDQ DFA. This allowance is based on NMFS' examination of the pollock incidental catch, including the incidental catch by CDQ vessels, in target fisheries other than pollock from 2003 through 2012. During this 10-year period, the incidental catch of pollock ranged from a low of 5 percent in 2006 to a high of 10 percent in 2003, with a 10-year average of 7 percent.

Pursuant to § 679.20(a)(8) and (10), NMFS allocates ICAs of 5,000 mt of flathead sole, 10,000 mt of rock sole, 2,000 mt of yellowfin sole, 10 mt of Western Aleutian District (WAI) Pacific ocean perch, 75 mt of Central Aleutian District (CAI) Pacific ocean perch, 200 mt of Eastern Aleutian District (EAI) Pacific ocean perch, 40 mt of WAI Atka mackerel, 75 mt of CAI Atka mackerel, and 1,000 mt of EAI and BS subarea Atka mackerel TAC after subtracting the 10.7 percent CDQ reserve. These ICA allowances are based on NMFS' examination of the incidental catch in other target fisheries from 2003 through 2012.

The regulations do not designate the remainder of the non-specified reserve by species or species group. Any amount of the reserve may be apportioned to a target species category during the year, provided that such apportionments do not result in overfishing (see § 679.20(b)(1)(i)). The Regional Administrator has determined that the ITACs specified for the species listed in Table 1 need to be supplemented from the non-specified reserve because U.S. fishing vessels have demonstrated the capacity to catch the full TAC allocations. Therefore, in accordance with § 679.20(b)(3), NMFS is apportioning the amounts shown in Table 2 from the non-specified reserve to increase the ITAC for shortraker rockfish, rougheye rockfish, northern rockfish, Pacific ocean perch, “other rockfish,” skates, sculpins, sharks, and octopuses by 15 percent of the TAC in 2013 and 2014.

Table 2—Final 2013 and 2014 Apportionment of Reserves to ITAC Categories
[Amounts are in metric tons]
Species-area or subarea | 2013 ITAC | 2013 Reserve amount | 2013 Final ITAC | 2014 ITAC | 2014 Reserve amount | 2014 Final ITAC
Shortraker rockfish-BSAI | 315 | 56 | 370 | 315 | 56 | 370
Rougheye rockfish-EBS/EAI | 144 | 25 | 169 | 161 | 28 | 189
Rougheye rockfish-CAI/WAI | 178 | 31 | 209 | 204 | 36 | 240
Northern rockfish-BSAI | 2,550 | 450 | 3,000 | 2,550 | 450 | 3,000
Pacific ocean perch-Bering Sea subarea | 6,911 | 1,220 | 8,130 | 6,528 | 1,152 | 7,680
Other rockfish-Bering Sea subarea | 340 | 60 | 400 | 583 | 103 | 686
Other rockfish-Aleutian Islands subarea | 402 | 71 | 473 | 402 | 71 | 473
Skates-BSAI | 20,400 | 3,600 | 24,000 | 21,250 | 3,750 | 25,000
Sculpins-BSAI | 4,760 | 840 | 5,600 | 4,760 | 840 | 5,600
Sharks-BSAI | 85 | 15 | 100 | 85 | 15 | 100
Octopuses-BSAI | 425 | 75 | 500 | 425 | 75 | 500
Total | 36,508 | 6,443 | 42,951 | 37,262 | 6,576 | 43,838

Allocation of Pollock TAC Under the American Fisheries Act (AFA)

Section 679.20(a)(5)(i)(A) requires that the BS subarea pollock TAC be apportioned, after subtracting 10 percent for the CDQ program and 3 percent for the ICA, as a DFA as follows: 50 percent to the inshore sector, 40 percent to the catcher/processor (C/P) sector, and 10 percent to the mothership sector. In the BS subarea, 40 percent of the DFA is allocated to the A season (January 20-June 10), and 60 percent of the DFA is allocated to the B season (June 10-November 1) (§ 679.20(a)(5)(i)(A)). The AI-directed pollock fishery allocation to the Aleut Corporation is the amount of pollock remaining in the AI subarea after subtracting 1,900 mt for the CDQ DFA (10 percent) and 1,600 mt for the ICA (§ 679.20(a)(5)(iii)(B)(2)(ii)). In the AI subarea, 40 percent of the DFA is allocated to the A season and the remainder of the directed pollock fishery is allocated to the B season. Table 3 lists these 2013 and 2014 amounts.

Section 679.20(a)(5)(i)(A)(4) also includes several specific requirements regarding BS subarea pollock allocations. First, it requires that 8.5 percent of the pollock allocated to the C/P sector be available for harvest by AFA catcher vessels (CVs) with C/P sector endorsements, unless the Regional Administrator receives a cooperative contract that allows the distribution of harvest among AFA C/Ps and AFA CVs in a manner agreed to by all members. Second, AFA C/Ps not listed in the AFA are limited to harvesting not more than 0.5 percent of the pollock allocated to the C/P sector. Table 4 lists the 2013 and 2014 allocations of pollock TAC. Tables 17 through 22 list the AFA C/P and CV harvesting sideboard limits. The tables for the pollock allocations to the BS subarea inshore pollock cooperatives and open access sector will be posted on the Alaska Region Web site at http://alaskafisheries.noaa.gov.

Table 3 also lists seasonal apportionments of pollock and harvest limits within the Steller Sea Lion Conservation Area (SCA). The harvest within the SCA, as defined at § 679.22(a)(7)(vii), is limited to no more than 28 percent of the annual DFA before 12:00 noon, April 1, as provided in § 679.20(a)(5)(i)(C). The A season pollock SCA harvest limit will be apportioned to each sector in proportion to each sector's allocated percentage of the DFA. Table 3 lists these 2013 and 2014 amounts by sector.

Table 3—Final 2013 and 2014 Allocations of Pollock TACS to the Directed Pollock Fisheries and to the CDQ Directed Fishing Allowances (DFA) ¹
[Amounts are in metric tons]
Area and sector | 2013 Allocations | 2013 A Season ¹: A Season DFA | 2013 A Season ¹: SCA Harvest limit ² | 2013 B Season ¹: B Season DFA | 2014 Allocations | 2014 A Season ¹: A Season DFA | 2014 A Season ¹: SCA Harvest limit ² | 2014 B Season ¹: B Season DFA
Bering Sea subarea | 1,247,000 | n/a | n/a | n/a | 1,247,000 | n/a | n/a | n/a
CDQ DFA | 124,700 | 49,880 | 34,916 | 74,820 | 124,700 | 49,880 | 34,916 | 74,820
ICA ¹ | 33,669 | n/a | n/a | n/a | 33,669 | n/a | n/a | n/a
AFA Inshore | 544,316 | 217,726 | 152,408 | 326,589 | 544,316 | 217,726 | 152,408 | 326,589
AFA Catcher/Processors ³ | 435,452 | 174,181 | 121,927 | 261,271 | 435,452 | 174,181 | 121,927 | 261,271
Catch by C/Ps | 398,439 | 159,376 | n/a | 239,063 | 398,439 | 159,376 | n/a | 239,063
Catch by CVs ³ | 37,013 | 14,805 | n/a | 22,208 | 37,013 | 14,805 | n/a | 22,208
Unlisted C/P Limit ⁴ | 2,177 | 871 | n/a | 1,306 | 2,177 | 871 | n/a | 1,306
AFA Motherships | 108,863 | 43,545 | 30,482 | 65,318 | 108,863 | 43,545 | 30,482 | 65,318
Excessive Harvesting Limit ⁵ | 190,510 | n/a | n/a | n/a | 190,510 | n/a | n/a | n/a
Excessive Processing Limit ⁶ | 326,589 | n/a | n/a | n/a | 326,589 | n/a | n/a | n/a
Total Bering Sea DFA | 1,088,631 | 435,452 | 304,817 | 653,179 | 1,088,631 | 435,452 | 304,817 | 653,179
Aleutian Islands subarea ¹ | 19,000 | n/a | n/a | n/a | 19,000 | n/a | n/a | n/a
CDQ DFA | 1,900 | 760 | n/a | 1,140 | 1,900 | 760 | n/a | 1,140
ICA | 1,600 | 800 | n/a | 800 | 1,600 | 800 | n/a | 800
Aleut Corporation | 15,500 | 13,360 | n/a | 2,140 | 15,500 | 14,360 | n/a | 1,140
Bogoslof District ICA ⁷ | 100 | n/a | n/a | n/a | 100 | n/a | n/a | n/a
¹ Pursuant to § 679.20(a)(5)(i)(A), the BS subarea pollock, after subtracting the CDQ DFA (10 percent) and the ICA (3 percent), is allocated as a DFA as follows: Inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (1,600 mt), is allocated to the Aleut Corporation for a directed pollock fishery. In the AI subarea, the A season is allocated 40 percent of the ABC and the B season is allocated the remainder of the directed pollock fishery.
² In the BS subarea, no more than 28 percent of each sector's annual DFA may be taken from the SCA before April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ The Bogoslof District is closed by the final harvest specifications to directed fishing for pollock. The amounts specified are for ICA only and are not apportioned by season or sector.
Note: Seasonal or sector apportionments may not total precisely due to rounding.

Allocation of the Atka Mackerel TACs

Section 679.20(a)(8) allocates the Atka mackerel TACs to the Amendment 80 and BSAI trawl limited access sectors, after subtracting the CDQ reserves, jig gear allocation, and ICAs for the BSAI trawl limited access sector and non-trawl gear sector (Table 4). The process for allocating the ITAC for Atka mackerel to the Amendment 80 and BSAI trawl limited access sectors is listed in Table 33 to part 679 and in § 679.91. Pursuant to § 679.20(a)(8)(i), up to 2 percent of the EAI and the BS subarea Atka mackerel ITAC may be allocated to the jig gear sector. Allocation is recommended annually by the Council based on several criteria, including the anticipated harvest capacity of the jig gear fleet. The Council recommended, and NMFS approves, a 0.5 percent allocation of the Atka mackerel ITAC in the EAI and BS subarea to the jig gear sector in 2013 and 2014. This percentage is applied to the Atka mackerel TAC after subtracting the CDQ reserve and the ICA.

Section 679.20(a)(8)(ii)(C)(3) limits the annual Atka mackerel TAC for Area 542 (the CAI) to no more than 47 percent of the Area 542 ABC. Section 679.7(a)(19) prohibits retention of Atka mackerel in Area 543 (the WAI), and the TAC is set to account for discards in other fisheries. Section 679.20(a)(8)(ii)(A) apportions the Atka mackerel TAC into two equal seasonal allowances. Section 679.23(e)(3) sets the first seasonal allowance for directed fishing with trawl gear from January 20 through June 10 (A season), and the second seasonal allowance from June 10 through November 1 (B season). Section 679.23(e)(4)(iii) applies Atka mackerel seasons to CDQ Atka mackerel fishing. The ICA and jig gear allocations are not apportioned by season.

Sections 679.20(a)(8)(ii)(C)(1)(i) and (ii) require the Amendment 80 cooperatives and CDQ groups to limit harvest to 10 percent of their Central Aleutian District Atka mackerel allocation equally divided between the A and B seasons, within waters 10 nm to 20 nm of Gramp Rock and Tag Island, as described on Table 12 to part 679. Vessels not fishing under the authority of an Amendment 80 cooperative quota or CDQ allocation are prohibited from conducting directed fishing for Atka mackerel inside Steller sea lion critical habitat in the Central Aleutian District.

Table 4 lists these 2013 and 2014 Atka mackerel season and area allowances, as well as the sector allocations. The 2014 allocations for Atka mackerel between Amendment 80 cooperatives and the Amendment 80 limited access sector will not be known until eligible participants apply for participation in the program by November 1, 2013. NMFS will post 2014 Amendment 80 allocations when they become available in December 2013.

Table 4—Final 2013 and 2014 Seasonal and Spatial Allowances, Gear Shares, CDQ Reserve, Incidental Catch Allowance, and Amendment 80 Allocations of the BSAI ATKA Mackerel TAC
[Amounts are in metric tons]
Sector ¹ | Season ²,³,⁴ | 2013 allocation by area: Eastern Aleutian District/ Bering Sea | 2013 allocation by area: Central ⁵ Aleutian District | 2013 allocation by area: Western Aleutian District | 2014 allocation by area: Eastern Aleutian District/ Bering Sea | 2014 allocation by area: Central ⁵ Aleutian District | 2014 allocation by area: Western Aleutian District
TAC | n/a | 16,900 | 7,520 | 1,500 | 16,500 | 7,379 | 1,500
CDQ reserve | Total | 1,808 | 805 | 161 | 1,766 | 790 | 161
| A | 904 | 402 | 80 | 883 | 395 | 80
| Critical Habitat ⁵ | n/a | 40 | n/a | n/a | 39 | n/a
| B | 904 | 402 | 80 | 883 | 395 | 80
| Critical Habitat ⁵ | n/a | 40 | n/a | n/a | 39 | n/a
ICA | Total | 1,000 | 75 | 40 | 1,000 | 75 | 40
Jig ⁶ | Total | 70 | 0 | 0 | 69 | 0 | 0
BSAI trawl limited access | Total | 1,402 | 664 | 0 | 1,367 | 651 | 0
| A | 701 | 332 | 0 | 683 | 326 | 0
| B | 701 | 332 | 0 | 683 | 326 | 0
Amendment 80 sectors | Total | 12,619 | 5,976 | 1,300 | 12,299 | 5,863 | 1,300
| A | 6,310 | 2,988 | 650 | 6,150 | 2,932 | 650
| B | 6,310 | 2,988 | 650 | 6,150 | 2,932 | 650
Alaska Groundfish Cooperative ⁷ | Total ⁷ | 7,271 | 3,563 | 783 | n/a | n/a | n/a
| A | 3,636 | 1,782 | 392 | n/a | n/a | n/a
| Critical Habitat ⁵ | n/a | 178 | n/a | n/a | n/a | n/a
| B | 3,636 | 1,782 | 392 | n/a | n/a | n/a
| Critical Habitat ⁵ | n/a | 178 | n/a | n/a | n/a | n/a
Alaska Seafood Cooperative ⁷ | Total ⁷ | 5,348 | 2,414 | 517 | n/a | n/a | n/a
| A | 2,674 | 1,207 | 259 | n/a | n/a | n/a
| Critical Habitat ⁵ | n/a | 121 | n/a | n/a | n/a | n/a
| B | 2,674 | 1,207 | 259 | n/a | n/a | n/a
| Critical Habitat ⁵ | n/a | 121 | n/a | n/a | n/a | n/a
¹ Section 679.20(a)(8)(ii) allocates the Atka mackerel TACs, after subtracting the CDQ reserves, jig gear allocation, and ICAs to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Regulations at §§ 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to November 1.
⁵ Section 679.20(a)(8)(ii)(C) requires the TAC in area 542 shall be no more than 47% of ABC, and Atka mackerel harvests for Amendment 80 cooperatives and CDQ groups within waters 10 nm to 20 nm of Gramp Rock and Tag Island, as described Table 12 to part 679, in Area 542 are limited to no more than 10 percent of the Amendment 80 cooperative Atka mackerel allocation or 10 percent of the CDQ Atka mackerel allocation.
⁶ Section 679.20(a)(8)(i) requires that up to 2 percent of the Eastern Aleutian District and the Bering Sea subarea TAC be allocated to jig gear after subtracting the CDQ reserve and ICA. The amount of this allocation is 0.5 percent. The jig gear allocation is not apportioned by season.
⁷ The 2014 allocations for Atka mackerel between Amendment 80 cooperatives and the Amendment 80 limited access sector will not be known until eligible participants apply for participation in the program by November 1, 2013. NMFS will post 2014 Amendment 80 allocations when they become available in December 2013.
Note: Seasonal or sector apportionments may not total precisely due to rounding.

Allocation of the Pacific Cod ITAC

Sections 679.20(a)(7)(i) and (ii) allocate the Pacific cod TAC in the BSAI, after subtracting 10.7 percent for the CDQ reserve, as follows: 1.4 percent to vessels using jig gear; 2.0 percent to hook-and-line and pot CVs less than 60 ft (18.3 m) length overall (LOA); 0.2 percent to hook-and-line CVs greater than or equal to 60 ft (18.3 m) LOA; 48.7 percent to hook-and-line C/P; 8.4 percent to pot CVs greater than or equal to 60 ft (18.3 m) LOA; 1.5 percent to pot C/Ps; 2.3 percent to AFA trawl C/Ps; 13.4 percent to non-AFA trawl C/Ps; and 22.1 percent to trawl CVs. The ICA for the hook-and-line and pot sectors will be deducted from the aggregate portion of Pacific cod TAC allocated to the hook-and-line and pot sectors. For 2013 and 2014, the Regional Administrator establishes an ICA of 500 mt based on anticipated incidental catch by these sectors in other fisheries.

The ITAC allocation of Pacific cod to the Amendment 80 sector is established in Table 33 to part 679 and § 679.91. The 2014 allocations for Amendment 80 species between Amendment 80 cooperatives and the Amendment 80 limited access sector will not be known until eligible participants apply for participation in the program by November 1, 2013. NMFS will post 2014 Amendment 80 allocations when they become available in December 2013.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

The CDQ and non-CDQ season allowances by gear based on the 2013 and 2014 Pacific cod TACs are listed in Tables 5 and 6, and are based on the sector allocation percentages of Pacific cod set forth at §§ 679.20(a)(7)(i)(B) and 679.20(a)(7)(iv)(A); and the seasonal allowances of Pacific cod set forth at § 679.23(e)(5).

Section 679.7(a)(19) prohibits retaining Pacific cod in Area 543, and § 679.7(a)(23) prohibits directed fishing for Pacific cod with hook-and-line, pot, or jig gear in the Aleutian Islands subarea November 1 through December 31.

Table 5—Final 2013 Gear Shares and Seasonal Allowances of the BSAI Pacific Cod TAC
[Amounts are in metric tons]
Gear sector | Percent | 2013 Share of gear sector total | 2013 Share of sector total | 2013 Seasonal apportionment: Seasons | 2013 Seasonal apportionment: Amount
Total TAC | 100 | 260,000 | n/a | n/a | n/a
CDQ | 10.7 | 27,820 | n/a | see § 679.20(a)(7)(i)(B) | n/a
Total hook-and-line/pot gear | 60.8 | 141,165 | n/a | n/a | n/a
Hook-and-line/pot ICA ¹ | n/a | 500 | n/a | see § 679.20(a)(7)(ii)(B) | n/a
Hook-and-line/pot sub-total | n/a | 140,665 | n/a | n/a | n/a
Hook-and-line catcher/processor | 48.7 | n/a | 112,671 | Jan 1-Jun 10 | 57,462
|  |  |  | Jun 10-Dec 31 | 55,209
Hook-and-line catcher vessel ≥ 60 ft LOA | 0.2 | n/a | 463 | Jan 1-Jun 10 | 236
|  |  |  | Jun 10-Dec 31 | 227
Pot catcher/processor | 1.5 | n/a | 3,470 | Jan 1-Jun 10 | 1,770
|  |  |  | Sept 1-Dec 31 | 1,700
Pot catcher vessel ≥ 60 ft LOA | 8.4 | n/a | 19,434 | Jan 1-Jun 10 | 9,911
|  |  |  | Sept 1-Dec 31 | 9,523
Catcher vessel < 60 ft LOA using hook-and-line or pot gear | 2 | n/a | 4,627 | n/a | n/a
Trawl catcher vessel | 22.1 | 51,312 | n/a | Jan 20-Apr 1 | 37,971
|  |  |  | Apr 1-Jun 10 | 5,644
|  |  |  | Jun 10-Nov 1 | 7,697
AFA trawl catcher/processor | 2.3 | 5,340 | n/a | Jan 20-Apr 1 | 4,005
|  |  |  | Apr 1- Jun 10 | 1,335
|  |  |  | Jun 10-Nov 1 | 0
Amendment 80 | 13.4 | 31,112 | n/a | Jan 20-Apr 1 | 23,334
|  |  |  | Apr 1- Jun 10 | 7,778
|  |  |  | Jun 10-Nov 1 | 0
Alaska Groundfish Cooperative | n/a | n/a | 5,793 | Jan 20-Apr 1 | 4,345
|  |  |  | Apr 1- Jun 10 | 1,448
|  |  |  | Jun 10-Nov 1 | 0
Alaska Seafood Cooperative | n/a | n/a | 25,319 | Jan 20-Apr 1 | 18,989
|  |  |  | Apr 1-Jun 10 | 6,330
|  |  |  | Jun 10-Nov 1 | 0
Jig | 1.4 | 3,251 | n/a | Jan 1-Apr 30 | 1,950
|  |  |  | Apr 30-Aug 31 | 650
|  |  |  | Aug 31-Dec 31 | 650
¹ The ICA for the hook-and-line and pot sectors will be deducted from the aggregate portion of Pacific cod TAC allocated to the hook-and-line and pot sectors. The Regional Administrator approves an ICA of 500 mt for 2013 based on anticipated incidental catch in these fisheries.
Note: Seasonal or sector apportionments may not total precisely due to rounding.

Table 6—Final 2014 Gear Shares and Seasonal Allowances of the BSAI Pacific Cod TAC
[Amounts are in metric tons]
Gear sector | Percent | 2014 Share of gear sector total | 2014 Share of sector total | 2014 Seasonal apportionment ²: Dates | 2014 Seasonal apportionment ²: Amount
Total TAC | 100 | 260,880 | n/a | n/a | n/a
CDQ | 10.7 | 27,914 | n/a | see § 679.20(a)(7)(i)(B) | n/a
Total hook-and-line/pot gear | 60.8 | 141,643 | n/a | n/a | n/a
Hook-and-line/pot ICA ¹ | n/a | 500 | n/a | see § 679.20(a)(7)(ii)(B) | n/a
Hook-and-line/pot sub-total | n/a | 141,143 | n/a | n/a | n/a
Hook-and-line catcher/processor | 48.7 | n/a | 113,054 | Jan 1-Jun 10 | 57,657
|  |  |  | Jun 10-Dec 31 | 55,396
Hook-and-line catcher vessel ≥ 60 ft LOA | 0.2 | n/a | 464 | Jan 1-Jun 10 | 237
|  |  |  | Jun 10-Dec 31 | 228
Pot catcher/processor | 1.5 | n/a | 3,482 | Jan 1-Jun 10 | 1,776
|  |  |  | Sept 1-Dec 31 | 1,706
Pot catcher vessel ≥ 60 ft LOA | 8.4 | n/a | 19,500 | Jan 1-Jun 10 | 9,945
|  |  |  | Sept 1-Dec 31 | 9,555
Catcher vessel < 60 ft LOA using hook-and-line or pot gear | 2 | n/a | 4,643 | n/a | n/a
Trawl catcher vessel | 22.1 | 51,485 | n/a | Jan 20-Apr 1 | 38,099
|  |  |  | Apr 1-Jun 10 | 5,663
|  |  |  | Jun 10-Nov 1 | 7,723
AFA trawl catcher/processor | 2.3 | 5,358 | n/a | Jan 20-Apr 1 | 4,019
|  |  |  | Apr 1-Jun 10 | 1,340
|  |  |  | Jun 10-Nov 1 | 0
Amendment 80 | 13.4 | 31,217 | n/a | Jan 20-Apr 1 | 23,413
|  |  |  | Apr 1- Jun 10 | 7,804
|  |  |  | Jun 10-Nov 1 | 0
Amendment 80 limited access ² | n/a | n/a | see footnote 2 | Jan 20-Apr 1 | 75%
|  |  |  | Apr 1- Jun 10 | 25%
|  |  |  | Jun 10-Nov 1 | 0
Amendment 80 cooperatives ² | n/a | n/a | see footnote 2 | Jan 20-Apr 1 | 75%
|  |  |  | Apr 1-Jun 10 | 25%
|  |  |  | Jun 10-Nov 1 | 0
Jig | 1.4 | 3,262 | n/a | Jan 1-Apr 30 | 1,957
|  |  |  | Apr 30-Aug 31 | 652
|  |  |  | Aug 31-Dec 31 | 652
¹ The ICA for the hook-and-line and pot sectors will be deducted from the aggregate portion of Pacific cod TAC allocated to the hook-and-line and pot sectors. The Regional Administrator approves an ICA of 500 mt for 2014 based on anticipated incidental catch in these fisheries.
² The 2014 allocations for Amendment 80 species between Amendment 80 cooperatives and the Amendment 80 limited access sector will not be known until eligible participants apply for participation in the program by November 1, 2013. NMFS will post 2014 Amendment 80 allocations when they become available in December 2013.
Note: Seasonal or sector apportionments may not total precisely due to rounding.

Sablefish Gear Allocation

Sections 679.20(a)(4)(iii) and (iv) require that sablefish TAC for the BS and AI subareas be allocated between trawl and hook-and-line or pot gear sectors. Gear allocations of the TAC for the BS subarea are 50 percent for trawl gear and 50 percent for hook-and-line or pot gear. Gear allocations of the TACs for the AI subarea are 25 percent for trawl gear and 75 percent for hook-and-line or pot gear. Section 679.20(b)(1)(ii)(B) requires NMFS to apportion 20 percent of the hook-and-line and pot gear allocation of sablefish to the CDQ reserve. Additionally, § 679.20(b)(1)(ii)(D) requires that 7.5 percent of the trawl gear allocation of sablefish from the nonspecified reserves, established under § 679.20(b)(1)(i), be assigned to the CDQ reserve. The Council recommended that only trawl sablefish TAC be established biennially. The harvest specifications for the hook-and-line gear and pot gear sablefish Individual Fishing Quota (IFQ) fisheries will be limited to the 2013 fishing year to ensure those fisheries are conducted concurrently with the halibut IFQ fishery. Concurrent sablefish and halibut IFQ fisheries will reduce the potential for discards of halibut and sablefish in those fisheries. The sablefish IFQ fisheries will remain closed at the beginning of each fishing year until the final harvest specifications for the sablefish IFQ fisheries are in effect. Table 7 lists the 2013 and 2014 gear allocations of the sablefish TAC and CDQ reserve amounts.

Table 7—Final 2013 and 2014 Gear Shares and CDQ Reserve of BSAI Sablefish TACS
[Amounts are in metric tons]
Subarea and gear | Percent of TAC | 2013 Share of TAC | 2013 ITAC | 2013 CDQ Reserve | 2014 Share of TAC | 2014 ITAC | 2014 CDQ Reserve
Bering Sea
Trawl ¹ | 50 | 790 | 672 | 59 | 740 | 629 | 56
Hook-and-line/pot gear ² | 50 | 790 | 632 | 158 | n/a | n/a | n/a
Total | 100 | 1,580 | 1,304 | 217 | 740 | 629 | 56
Aleutian Islands
Trawl ¹ | 25 | 535 | 455 | 40 | 503 | 428 | 38
Hook-and-line/pot gear ² | 75 | 1,605 | 1,284 | 321 | n/a | n/a | n/a
Total | 100 | 2,140 | 1,739 | 361 | 503 | 428 | 38
¹ Except for the sablefish hook-and-line or pot gear allocation, 15 percent of TAC is apportioned to the reserve. The ITAC is the remainder of the TAC after the subtracting these reserves.
² For the portion of the sablefish TAC allocated to vessels using hook-and-line or pot gear, 20 percent of the allocated TAC is reserved for use by CDQ participants. The Council recommended that specifications for the hook-and-line gear sablefish IFQ fisheries be limited to one year.
Note: Sector apportionments may not total precisely due to rounding.

Allocation of the AI Pacific Ocean Perch, and BSAI Flathead Sole, Rock Sole, and Yellowfin Sole TACs

Sections 679.20(a)(10)(i) and (ii) require that NMFS allocate AI Pacific ocean perch, and BSAI flathead sole, rock sole, and yellowfin sole TAC between the Amendment 80 sector and BSAI trawl limited access sector, after subtracting 10.7 percent for the CDQ reserve and an ICA for the BSAI trawl limited access sector and vessels using non-trawl gear. The allocation of the ITAC for AI Pacific ocean perch, and BSAI flathead sole, rock sole, and yellowfin sole to the Amendment 80 sector is established in accordance with Tables 33 and 34 to part 679 and § 679.91.

The 2014 allocations for Amendment 80 species between Amendment 80 cooperatives and the Amendment 80 limited access sector will not be known until eligible participants apply for participation in the program by November 1, 2013. NMFS will publish 2014 Amendment 80 allocations when they become available in December 2013. Tables 8 and 9 list the 2013 and 2014 allocations of the AI Pacific ocean perch, and BSAI flathead sole, rock sole, and yellowfin sole TACs.

Table 8—Final 2013 Community Development Quota (CDQ) Reserves, Incidental Catch Amounts (ICAS), and Amendment 80 Allocations of the Aleutian Islands Pacific Ocean Perch, and BSAI Flathead Sole, Rock Sole, and Yellowfin Sole TAC
[Amounts are in metric tons]
Sector | Pacific ocean perch: Eastern Aleutian District | Pacific ocean perch: Central Aleutian District | Pacific ocean perch: Western Aleutian District | Flathead sole: BSAI | Rock sole: BSAI | Yellowfin sole: BSAI
TAC | 9,790 | 6,980 | 10,200 | 22,699 | 92,380 | 198,000
CDQ | 1,048 | 747 | 1,091 | 2,429 | 9,885 | 21,186
ICA | 200 | 75 | 10 | 5,000 | 10,000 | 2,000
BSAI trawl limited access | 854 | 616 | 182 | 0 | 0 | 34,868
Amendment 80 | 7,688 | 5,542 | 8,917 | 15,270 | 72,495 | 139,946
Alaska Groundfish Cooperative | 4,077 | 2,939 | 4,728 | 2,982 | 20,348 | 59,403
Alaska Seafood Cooperative | 3,612 | 2,604 | 4,189 | 12,288 | 52,147 | 80,543
Note: Sector apportionments may not total precisely due to rounding.

Table 9—Final 2013 Community Development Quota (CDQ) Reserves, Incidental Catch Amounts (ICAS), and Amendment 80 Allocations of the Aleutian Islands Pacific Ocean Perch, and BSAI Flathead Sole, Rock Sole, and Yellowfin Sole TAC
[Amounts are in metric tons]
Sector | Pacific ocean perch: Eastern Aleutian District | Pacific ocean perch: Central Aleutian District | Pacific ocean perch: Western Aleutian District | Flathead sole: BSAI | Rock sole: BSAI | Yellowfin sole: BSAI
TAC | 9,240 | 6,590 | 9,590 | 22,543 | 92,000 | 198,000
CDQ | 989 | 705 | 1,026 | 2,412 | 9,844 | 21,186
ICA | 200 | 75 | 10 | 5,000 | 10,000 | 2,000
BSAI trawl limited access | 805 | 581 | 171 | 0 | 0 | 34,868
Amendment 80 ¹ | 7,246 | 5,229 | 8,383 | 15,131 | 72,156 | 139,946
¹ The 2014 allocations for Amendment 80 species between Amendment 80 cooperatives and the Amendment 80 limited access sector will not be known until eligible participants apply for participation in the program by November 1, 2013. NMFS will publish 2014 Amendment 80 allocations when they become available in December 2013.
Note: Sector apportionments may not total precisely due to rounding.

Allocation of PSC Limits for Halibut, Salmon, Crab, and Herring

Section 679.21(e) sets forth the BSAI PSC limits. Pursuant to § 679.21(e)(1)(iv) and (e)(2), the 2013 and 2014 BSAI halibut mortality limits are 3,675 mt for trawl fisheries and 900 mt for the non-trawl fisheries. Sections 679.21(e)(3)(i)(A)(2) and 679.21(e)(4)(i)(A) allocate 326 mt of the trawl halibut mortality limit and 7.5 percent, or 67 mt, of the non-trawl halibut mortality limit as the PSQ reserve for use by the groundfish CDQ program.

Section 679.21(e)(4)(i) authorizes apportioning the non-trawl halibut PSC limit into PSC bycatch allowances among six fishery categories. Tables 11 and 12 list the fishery bycatch allowances for the trawl fisheries, and Table 13 lists the fishery bycatch allowances for the non-trawl fisheries.

Pursuant to section 3.6 of the FMP, the Council recommends, and NMFS agrees, that certain specified non-trawl fisheries be exempt from the halibut PSC limit. As in past years, after consulting with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires legal-size halibut to be retained by vessels using hook-and-line gear if a halibut IFQ permit holder or a hired master is aboard and is holding unused halibut IFQ (subpart D of 50 CFR part 679). In 2012, total groundfish catch for the pot gear fishery in the BSAI was approximately 31,735 mt, with an associated halibut bycatch mortality of about 6 mt.

The 2012 jig gear fishery harvested about 108 mt of groundfish. Most vessels in the jig gear fleet are less than 60 ft (18.3 m) LOA and thus are exempt from observer coverage requirements. As a result, observer data are not available on halibut bycatch in the jig gear fishery. However, as mentioned above, NMFS estimates the jig gear sector will have a negligible amount of halibut bycatch mortality because of the selective nature of jig gear and the low mortality rate of halibut caught with jig gear and released.

Section 679.21(f)(2) annually allocates portions of either 47,591 or 60,000 Chinook salmon PSC among the AFA sectors, depending on past catch performance and on whether Chinook salmon bycatch incentive plan agreements are formed. If an AFA sector participates in an approved Chinook salmon bycatch incentive plan agreement, then NMFS will allocate a portion of the 60,000 PSC limit to that sector as specified in § 679.21(f)(3)(iii)(A). If no Chinook salmon bycatch incentive plan agreement is approved, or if the sector has exceeded its performance standard under § 679.21(f)(6), then NMFS will allocate a portion of the 47,591 Chinook salmon PSC limit to that sector, as specified in § 679.21(f)(3)(iii)(B). In 2013, the Chinook salmon PSC limit is 60,000 and the AFA sector Chinook salmon allocations are seasonally allocated with 70 percent of the allocation for the A season pollock fishery, and 30 percent of the allocation for the B season pollock fishery as stated in § 679.21(f)(3)(iii)(A). The basis for these PSC limits is described in detail in the final rule implementing management measures for Amendment 91 (75 FR 53026, August 30, 2010). NMFS publishes the approved Chinook salmon bycatch incentive plan agreements, 2013 allocations and reports at: http://alaskafisheries.noaa.gov/sustainablefisheries/bycatch/default.htm.

Section 679.21(e)(1)(viii) specifies 700 fish as the 2013 and 2014 Chinook salmon PSC limit for the AI subarea pollock fishery. Section 679.21(e)(3)(i)(A)(3)(i), allocates 7.5 percent, or 53 Chinook salmon, to the AI subarea PSQ for the CDQ program, and allocates the remaining 647 Chinook salmon to the non-CDQ fisheries.

Section 679.21(e)(1)(vii) specifies 42,000 fish as the 2013 and 2014 non-Chinook salmon PSC limit in the Catcher Vessel Operational Area (CVOA). Section 679.21(e)(3)(i)(A)(3)(ii) allocates 10.7 percent, or 4,494 non-Chinook salmon in the CVOA as the PSQ for the CDQ program, and allocates the remaining 37,506 non-Chinook salmon in the CVOA as the PSC limit for the non-CDQ fisheries.

PSC limits for crab and herring are specified annually based on abundance and spawning biomass. Section 679.21(e)(3)(i)(A)(1) allocates 10.7 percent from each trawl gear PSC limit specified for crab as a PSQ reserve for use by the groundfish CDQ program.

Based on the 2012 survey data, the red king crab mature female abundance is estimated at 21.1 million red king crabs, and the effective spawning biomass is estimated at 44.2 million lb (20,049 mt). Based on the criteria set out at § 679.21(e)(1)(i), the 2013 and 2014 PSC limit of red king crab in Zone 1 for trawl gear is 97,000 animals. This limit derives from the mature female abundance of more than 8.4 million king crab and the effective spawning biomass estimate of less than 55 million lb (24,948 mt).

Section 679.21(e)(3)(ii)(B)(2) establishes criteria under which NMFS must specify an annual red king crab bycatch limit for the Red King Crab Savings Subarea (RKCSS). The regulations limit the RKCSS red king crab bycatch limit to 25 percent of the red king crab PSC limit, based on the need to optimize the groundfish harvest relative to red king crab bycatch. In December 2012, the Council recommended that the red king crab bycatch limit be equal to 25 percent of the red king crab PSC limit within the RKCSS (Table 8b). NMFS concurs with the Council's recommendation.

Based on 2012 survey data, Tanner crab (Chionoecetes bairdi) abundance is estimated at 711 million animals. Pursuant to criteria set out at § 679.21(e)(1)(ii), the calculated 2013 and 2014 C. bairdi crab PSC limit for trawl gear is 980,000 animals in Zone 1 and 2,970,000 animals in Zone 2. These limits derive from the C. bairdi crab abundance estimate being in excess of the 400 million animals for both the Zone 1 and Zone 2 allocations.

Pursuant to § 679.21(e)(1)(iii), the PSC limit for snow crab (C. opilio) is based on total abundance as indicated by the NMFS annual bottom trawl survey. The C. opilio crab PSC limit is set at 0.1133 percent of the BS abundance index minus 150,000 crab. Based on the 2012 survey estimate of 9.401 billion animals, the calculated C. opilio crab PSC limit is 10,501,333 animals.

Pursuant to § 679.21(e)(1)(v), the PSC limit of Pacific herring caught while conducting any trawl operation for BSAI groundfish is 1 percent of the annual eastern BS herring biomass. The best estimate of 2013 and 2014 herring biomass is 264,802 mt. This amount was derived using 2012 survey data and an age-structured biomass projection model developed by the Alaska Department of Fish and Game. Therefore, the herring PSC limit for 2013 and 2014 is 2,648 mt for all trawl gear as listed in Tables 10 and 11.

Section 679.21(e)(3)(A) requires PSQ reserves to be subtracted from the total trawl PSC limits. The amounts of 2012 PSC limits assigned to the Amendment 80 and BSAI trawl limited access sectors are specified in Table 35 to part 679. The resulting allocation of PSC limit to CDQ PSQ, the Amendment 80 sector, and the BSAI trawl limited access fisheries are listed in Table 10. Pursuant to § 679.21(e)(1)(iv) and § 679.91(d) through (f), crab and halibut trawl PSC limits assigned to the Amendment 80 sector are then further allocated to Amendment 80 cooperatives as PSC cooperative quota as listed in Table 14. PSC cooperative quota assigned to Amendment 80 cooperatives is not allocated to specific fishery categories. In 2013, there are no vessels in the Amendment 80 limited access sector. The 2014 PSC allocations between Amendment 80 cooperatives and the Amendment 80 limited access sector will not be known until eligible participants apply for participation in the program by November 1, 2013. Section 679.21(e)(3)(i)(B) requires NMFS to apportion each trawl PSC limit not assigned to Amendment 80 cooperatives into PSC bycatch allowances for seven specified fishery categories.

Section 679.21(e)(5) authorizes NMFS, after consulting with the Council, to establish seasonal apportionments of PSC amounts for the BSAI trawl limited access and Amendment 80 limited access sectors in order to maximize the ability of the fleet to harvest the available groundfish TAC and to minimize bycatch. The factors to be considered are: (1) Seasonal distribution of prohibited species; (2) seasonal distribution of target groundfish species; (3) PSC bycatch needs on a seasonal basis relevant to prohibited species biomass; (4) expected variations in bycatch rates throughout the year; (5) expected start of fishing effort; and (6) economic effects of seasonal PSC apportionments on industry sectors. The Council recommended and NMFS approves the seasonal PSC apportionments in Tables 12 and 13 to maximize harvest among gear types, fisheries, and seasons while minimizing bycatch of PSC based on the above criteria.

Table 10—Final 2013 and 2014 Apportionment of Prohibited Species Catch Allowances to Non-Trawl Gear, the CDQ Program, Amendment 80, and the BSAI Trawl Limited Access Sectors
PSC species and area ¹ | Total non-trawl PSC | Non-trawl PSC remaining after CDQ PSQ ² | Total trawl PSC | Trawl PSC remaining after CDQ PSQ ² | CDQ PSQ reserve ² | Amendment 80 sector ³ | BSAI trawl limited access fishery
Halibut mortality (mt) BSAI | 900 | 832 | 3,675 | 3,349 | 393 | 2,325 | 875
Herring (mt) BSAI | n/a | n/a | 2,648 | n/a | n/a | n/a | n/a
Red king crab (animals) Zone 1 | n/a | n/a | 97,000 | 86,621 | 10,379 | 43,293 | 26,489
C. opilio (animals) COBLZ | n/a | n/a | 10,501,333 | 9,377,690 | 1,123,643 | 4,609,135 | 3,013,990
C. bairdi crab (animals) Zone 1 | n/a | n/a | 980,000 | 875,140 | 104,860 | 368,521 | 411,228
C. bairdi crab (animals) Zone 2 | n/a | n/a | 2,970,000 | 2,652,210 | 317,790 | 627,778 | 1,241,500
¹ Refer to § 679.2 for definitions of zones.
² Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
³ The Amendment 80 program reduced apportionment of the trawl PSC limits by 150 mt for halibut mortality and 20 percent for crab. These reductions are not apportioned to other gear types or sectors.
Note: Sector apportionments may not total precisely due to rounding.

Table 11—Final 2013 and 2014 Herring and Red King Crab Savings Subarea Prohibited Species Catch Allowances for All Trawl Sectors
Fishery Categories | Herring (mt) BSAI | Red king crab (animals) Zone 1
Yellowfin sole | 180 | n/a
Rock sole/flathead sole/other flatfish ¹ | 30 | n/a
Turbot/arrowtooth/sablefish ² | 20 | n/a
Rockfish | 13 | n/a
Pacific cod | 40 | n/a
Midwater trawl pollock | 2,165 | n/a
Pollock/Atka mackerel/other species 3 4 | 200 | n/a
Red king crab savings subarea non-pelagic trawl gear ⁵ | n/a | 24,250
Total trawl PSC | 2,648 | 97,000
¹ “Other flatfish” for PSC monitoring includes all flatfish species, except for halibut (a prohibited species), arrowtooth flounder, flathead sole, Greenland turbot, Kamchatka flounder, rock sole, and yellowfin sole.
² “Arrowtooth flounder” for PSC monitoring includes Kamchatka flounder.
³ Pollock other than pelagic trawl pollock, Atka mackerel, and “other species” fishery category.
⁴ “Other species” for PSC monitoring includes skates, sculpins, sharks, squids, and octopuses.
⁵ In December 2012 the Council recommended that the red king crab bycatch limit for non-pelagic trawl fisheries within the RKCSS be limited to 25 percent of the red king crab PSC allowance (see § 679.21(e)(3)(ii)(B)(2)).
Note: Species apportionments may not total precisely due to rounding.

Table 12—Final 2013 and 2014 Prohibited Species Bycatch Allowances for the Bsai Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 23,338 | 2,840,175 | 346,228 | 1,185,500
Rock sole/flathead sole/other flatfish ² | 0 | 0 | 0 | 0 | 0
Turbot/arrowtooth/sablefish ³ | 0 | 0 | 0 | 0 | 0
Rockfish April 15-December 31 | 5 | 0 | 4,828 | 0 | 1,000
Pacific cod | 453 | 2,954 | 120,705 | 60,000 | 50,000
Pollock/Atka mackerel/other species ⁴ | 250 | 197 | 48,282 | 5,000 | 5,000
Total BSAI trawl limited access PSC | 875 | 26,489 | 3,013,990 | 411,228 | 1,241,500
¹ Refer to § 679.2 for definitions of areas.
² “Other flatfish” for PSC monitoring includes all flatfish species, except for halibut (a prohibited species), flathead sole, Greenland turbot, rock sole, yellowfin sole, Kamchatka flounder, and arrowtooth flounder.
³ Arrowtooth flounder for PSC monitoring includes Kamchatka flounder.
⁴ “Other species” for PSC monitoring includes skates, sculpins, sharks, squids, and octopuses.
Note: Seasonal or sector apportionments may not total precisely due to rounding.

TABLE 13—Final 2013 and 2014 Prohibited Species Bycatch Allowances for Non-Trawl Fisheries
Non-trawl fisheries | Catcher/processor | Catcher vessel
Pacific cod-Total | 760 | 15
January 1-June 10 | 455 | 10
June 10-August 15 | 190 | 3
August 15-December 31 | 115 | 2
Other non-trawl-Total | 58
May 1-December 31 | 58
Groundfish pot and jig | Exempt
Sablefish hook-and-line | Exempt
Total non-trawl PSC | 833
Note: Seasonal or sector apportionments may not total precisely due to rounding.

Table 14—Final 2013 Prohibited Species Bycatch Allowance for the BSAI Amendment 80 Cooperatives
Cooperative | Prohibited species and zones ¹: Halibut mortality (mt) BSAI | Prohibited species and zones ¹: Red king crab (animals) zone 1 | Prohibited species and zones ¹: C. opilio (animals COBLZ | Prohibited species and zones ¹: C, baurdu (animals): Zone 1 | Prohibited species and zones ¹: C, baurdu (animals): Zone 2
Alaska Seafood Cooperative | 1,609 | 29,484 | 2,975,772 | 259,427 | 433,149
Alaska Groundfish Cooperative | 716 | 13,809 | 1,633,363 | 109,094 | 194,629
¹ Refer to § 679.2 for definitions of zones.
Note: Sector apportionments may not total precisely due to rounding.

Halibut Discard Mortality Rates (DMR)

To monitor halibut bycatch mortality allowances and apportionments, the Regional Administrator uses observed halibut bycatch rates, DMRs, and estimates of groundfish catch to project when a fishery's halibut bycatch mortality allowance or seasonal apportionment is reached. The DMRs are based on the best information available, including information contained in the annual SAFE report.

NMFS approves the halibut DMRs developed and recommended by the International Pacific Halibut Commission (IPHC) and the Council for the 2013 and 2014 BSAI groundfish fisheries for use in monitoring the 2013 and 2014 halibut bycatch allowances (see Tables 10, 11, 12, 13, and 14). The IPHC developed these DMRs for the 2013 and 2014 BSAI fisheries using the 10-year mean DMRs for those fisheries. The IPHC will analyze observer data annually and recommend changes to the DMRs when a fishery DMR shows large variation from the mean. A discussion of the DMRs is available from the Council (see ADDRESSES). Table 15 lists the 2013 and 2014 DMRs.

Table 15—Final 2013 and 2014 Pacific Halibut Discard Mortality Rates for the BSAI
Gear | Fishery | Halibut discard mortality rate (percent)
Non-CDQ hook-and-line | Greenland turbot | 13
| Other species ¹ | 9
| Pacific cod | 9
| Rockfish | 4
Non-CDQ trawl | Arrowtooth flounder ² | 76
| Atka mackerel | 77
| Flathead sole | 73
| Greenland turbot | 64
| Non-pelagic pollock | 77
| Pelagic pollock | 88
| Other flatfish ³ | 71
| Other species ¹ | 71
| Pacific cod | 71
| Rockfish | 79
| Rock sole | 85
| Sablefish | 75
| Yellowfin sole | 83
Non-CDQ Pot | Other species ¹ | 8
| Pacific cod | 8
CDQ trawl | Atka mackerel | 86
| Greenland turbot | 89
| Flathead sole | 79
| Non-pelagic pollock | 83
| Pacific cod | 90
| Pelagic pollock | 90
| Rockfish | 80
| Rock sole | 88
| Yellowfin sole | 86
CDQ hook-and-line | Greenland turbot | 4
| Pacific cod | 10
CDQ pot | Pacific cod | 8
| Sablefish | 34
¹ “Other species” includes skates, sculpins, sharks, squids and octopuses.
² Arrowtooth flounder includes Kamchatka flounder.
³ “Other flatfish” includes all flatfish species, except for halibut (a prohibited species), flathead sole, Greenland turbot, rock sole, yellowfin sole, Kamchatka flounder, and arrowtooth flounder.

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab, or C. opilio crab for a specified area has been reached, the Regional Administrator will prohibit directed fishing for each species in that category in the specified area.

Based on historic catch patterns and anticipated fishing activity, the Regional Administrator has determined that the groundfish allocation amounts in Table 16 will be necessary as incidental catch to support other anticipated groundfish fisheries for the 2013 and 2014 fishing years. Consequently, in accordance with § 679.20(d)(1)(i), the Regional Administrator establishes the DFA for the species and species groups in Table 10 as zero. Therefore, in accordance with § 679.20(d)(1)(iii), NMFS is prohibiting directed fishing for these sectors and species in the specified areas effective at 1200 hrs, A.l.t., March 1, 2013, through 2400 hrs, A.l.t., December 31, 2014. Also, for the BSAI trawl limited access sector, bycatch allowances of halibut, red king crab, C. bairdi crab, and C. opilio crab listed in Table 10 are insufficient to support directed fisheries. Therefore, in accordance with § 679.21(e)(7), NMFS is prohibiting directed fishing for these sectors and fishery categories in the specified areas effective at 1200 hrs, A.l.t., March 1, 2013, through 2400 hrs, A.l.t., December 31, 2014.

Table 16—2013 and 2014 Directed Fishing Closures ¹
[Groundfish and halibut amounts are in metric tons. Crab amounts are in number of animals]
Area | Sector | Species | 2013 Incidental catch allowance | 2014 Incidental catch allowance
Bogoslof District | All | Pollock | 100 | 100
Aleutian Islands subarea | All | ICA pollock | 1,600 | 1,600
|  | “Other rockfish” ² | 473 | 473
Eastern Aleutian District/Bering Sea | Non-amendment 80 and BSAI trawl limited access | ICA Atka mackerel | 1,000 | 1,000
Eastern Aleutian District/Bering Sea | All | Rougheye rockfish | 169 | 189
Eastern Aleutian District | Non-amendment 80 and BSAI trawl limited access | ICA Pacific ocean perch | 200 | 200
Central Aleutian District | Non-amendment 80 and BSAI trawl limited access | ICA Atka mackerel | 75 | 75
|  | ICA Pacific ocean perch | 75 | 75
Western Aleutian District | Non-amendment 80 and BSAI trawl limited access | ICA Atka mackerel | 40 | 40
|  | ICA Pacific ocean perch | 10 | 10
Central and Western Aleutian Districts | All | Rougheye rockfish | 209 | 240
Bering Sea subarea | All | Pacific ocean perch | 8,130 | 7,680
|  | “Other rockfish” ² | 400 | 686
|  | ICA pollock | 33,669 | 33,669
Bering Sea and Aleutian Islands | All | Northern rockfish | 3,000 | 3,000
|  | Shortraker rockfish | 370 | 370
|  | Skates | 24,000 | 25,000
|  | Sculpins | 5,600 | 5,600
|  | Sharks | 100 | 100
|  | Squids | 595 | 595
|  | Octopuses | 500 | 500
| Hook-and-line and pot gear | ICA Pacific cod | 500 | 500
| Non-amendment 80 | ICA flathead sole | 5,000 | 5,000
|  | ICA rock sole | 10,000 | 10,000
| Non-amendment 80 and BSAI trawl limited access | ICA yellowfin sole | 2,000 | 2,000
| BSAI trawl limited access | Rock sole/flathead sole/other flatfish—halibut mortality, red king crab Zone 1, C. opilio COBLZ, C. bairdi Zone 1 and 2 | 0 | 0
|  | Turbot/arrowtooth/sablefish—halibut mortality, red king crab Zone 1, C. opilio COBLZ, C. bairdi Zone 1 and 2 | 0 | 0
|  | Rockfish—red king crab Zone 1 | 0 | 0
¹ Maximum retainable amounts may be found in Table 11 to 50 CFR part 679.
² “Other rockfish” includes all Sebastes and Sebastolobus species except for Pacific ocean perch, northern rockfish, dark rockfish, shortraker rockfish, and rougheye rockfish.

Closures implemented under the 2012 and 2013 BSAI harvest specifications for groundfish (77 FR 10669, February 23, 2012) remain effective under authority of these final 2013 and 2014 harvest specifications, and are posted at the following Web sites: http://alaskafisheries.noaa.gov/index/infobulletins/infobulletins.asp?Yr=2013 and http://alaskafisheries.noaa.gov/2013/status.htm. While these closures are in effect, the maximum retainable amounts at § 679.20(e) and (f) apply at any time during a fishing trip. These closures to directed fishing are in addition to closures and prohibitions found in regulations at 50 CFR part 679.

Listed AFA Catcher/Processor Sideboard Limits

Pursuant to § 679.64(a), the Regional Administrator is responsible for restricting the ability of listed AFA C/Ps to engage in directed fishing for groundfish species other than pollock to protect participants in other groundfish fisheries from adverse effects resulting from the AFA and from fishery cooperatives in the directed pollock fishery. These restrictions are set out as “sideboard” limits on catch. The basis for these sideboard limits is described in detail in the final rules implementing the major provisions of the AFA (67 FR 79692, December 30, 2002) and Amendment 80 (72 FR 52668, September 14, 2007). Table 17 lists the 2013 and 2014 C/P sideboard limits.

All harvest of groundfish sideboard species by listed AFA C/Ps, whether as targeted catch or incidental catch, will be deducted from the sideboard limits in Table 17. However, groundfish sideboard species that are delivered to listed AFA C/Ps by CVs will not be deducted from the 2013 and 2014 sideboard limits for the listed AFA C/Ps.

Section 679.64(a)(2) and Tables 40 and 41 of part 679 establish a formula for calculating PSC sideboard limits for listed AFA C/Ps. The basis for these sideboard limits is described in detail in the final rules implementing the major provisions of the AFA (67 FR 79692, December 30, 2002) and Amendment 80 (72 FR 52668, September 14, 2007), and in the proposed rule (77 FR 72791).

PSC species listed in Table 18 that are caught by listed AFA C/Ps participating in any groundfish fishery other than pollock will accrue against the 2013 and 2014 PSC sideboard limits for the listed AFA C/Ps. Section 679.21(e)(3)(v) authorizes NMFS to close directed fishing for groundfish other than pollock for listed AFA C/Ps once a 2013 or 2014 PSC sideboard limit listed in Table 18 is reached.

Crab or halibut PSC caught by listed AFA C/Ps while fishing for pollock will accrue against the bycatch allowances annually specified for either the midwater pollock or the pollock/Atka mackerel/“other species” fishery categories under regulations at § 679.21(e)(3)(iv).

Table 17—Final 2013 and 2014 Listed BSAI American Fisheries Act Catcher/Processor Groundfish Sideboard Limits
[Amounts are in metric tons]
Target species | Area/season | 1995-1997: Retained catch | 1995-1997: Total catch | 1995-1997: Ratio of retained catch to total catch | 2013 ITAC Available to trawl C/Ps ¹ | 2013 AFA C/P Side-board limit | 2014 ITAC Available to trawl C/Ps ¹ | 2014 AFA C/P Side-board limit
Sablefish trawl | BS | 8 | 497 | 0.016 | 672 | 11 | 629 | 10
| AI | 0 | 145 | 0 | 455 | 0 | 428 | 0
Atka mackerel | Central AI A season ² | n/a | n/a | 0.115 | 3,358 | 386 | 3,295 | 379
| Central AI B season ² | n/a | n/a | 0.115 | 3,358 | 386 | 3,295 | 379
| Western AI A season ² | n/a | n/a | 0.2 | 670 | 134 | 670 | 134
| Western AI B season ² | n/a | n/a | 0.2 | 670 | 134 | 670 | 134
Rock sole | BSAI | 6,317 | 169,362 | 0.037 | 82,495 | 3,052 | 82,156 | 3,040
Greenland turbot | BS | 121 | 17,305 | 0.007 | 1,369 | 10 | 1,760 | 12
| AI | 23 | 4,987 | 0.005 | 383 | 2 | 493 | 2
Arrowtooth flounder | BSAI | 76 | 33,987 | 0.002 | 21,250 | 43 | 21,250 | 43
Kamchatka flounder | BSAI | 76 | 33,987 | 0.002 | 8,500 | 17 | 8,500 | 17
Flathead sole | BSAI | 1,925 | 52,755 | 0.036 | 20,270 | 730 | 20,131 | 725
Alaska plaice | BSAI | 14 | 9,438 | 0.001 | 17,000 | 17 | 17,000 | 17
Other flatfish | BSAI | 3,058 | 52,298 | 0.058 | 2,975 | 173 | 3,400 | 197
Pacific ocean perch | BS | 12 | 4,879 | 0.002 | 8,130 | 16 | 7,680 | 15
| Eastern AI | 125 | 6,179 | 0.02 | 8,742 | 175 | 8,251 | 165
| Central AI | 3 | 5,698 | 0.001 | 6,233 | 6 | 5,885 | 6
| Western AI | 54 | 13,598 | 0.004 | 9,109 | 36 | 8,564 | 34
Northern rockfish | BSAI | 91 | 13,040 | 0.007 | 3,000 | 21 | 3,000 | 21
Shortraker rockfish | BSAI | 50 | 2,811 | 0.018 | 370 | 7 | 370 | 7
Rougheye rockfish | EBS/EAI | 50 | 2,811 | 0.018 | 169 | 3 | 189 | 3
| CAI/WAI | 50 | 2,811 | 0.018 | 209 | 4 | 240 | 4
Other rockfish | BS | 18 | 621 | 0.029 | 400 | 12 | 686 | 20
| AI | 22 | 806 | 0.027 | 473 | 13 | 473 | 13
Skates | BSAI | 553 | 68,672 | 0.008 | 24,000 | 192 | 25,000 | 200
Sculpins | BSAI | 553 | 68,672 | 0.008 | 5,600 | 45 | 5,600 | 45
Sharks | BSAI | 553 | 68,672 | 0.008 | 100 | 1 | 100 | 1
Squids | BSAI | 73 | 3,328 | 0.022 | 595 | 13 | 595 | 13
Octopuses | BSAI | 553 | 68,672 | 0.008 | 500 | 4 | 500 | 4
¹ Aleutian Islands Pacific ocean perch, and BSAI Atka mackerel, flathead sole, rock sole, and yellowfin sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.

Table 18—Final 2013 and 2014 BSAI AFA Listed Catcher/Processor Prohibited Species Sideboard Limits
PSC species and area ¹ | Ratio of PSC catch to total PSC | 2013 and 2014 PSC available to trawl vessels after subtraction of PSQ ² | 2013 and 2014 catcher/processor sideboard limit ²
Halibut mortality BSAI | n/a | n/a | 286
Red king crab zone 1 | 0.007 | 86,621 | 606
C. opilio (COBLZ) | 0.153 | 9,377,690 | 1,434,787
C. bairdi Zone 1 | 0.14 | 875,140 | 122,520
C. bairdi Zone 2 | 0.05 | 2,652,210 | 132,611
¹ Refer to § 679.2 for definitions of areas.
² Halibut amounts are in metric tons of halibut mortality. Crab amounts are in numbers of animals.

AFA Catcher Vessel Sideboard Limits

Pursuant to § 679.64(a), the Regional Administrator is responsible for restricting the ability of AFA CVs to engage in directed fishing for groundfish species other than pollock to protect participants in other groundfish fisheries from adverse effects resulting from the AFA and from fishery cooperatives in the directed pollock fishery. Section 679.64(b) establishes a formula for setting AFA CV groundfish and PSC sideboard limits for the BSAI. The basis for these sideboard limits is described in detail in the final rules implementing the major provisions of the AFA (67 FR 79692, December 30, 2002) and Amendment 80 (72 FR 52668, September 14, 2007). Tables 19 and 20 list the 2013 and 2014 AFA CV sideboard limits.

All catch of groundfish sideboard species made by non-exempt AFA CVs, whether as targeted catch or incidental catch, will be deducted from the 2013 and 2014 sideboard limits listed in Table 19.

Table 19—Final 2013 and 2014 American Fisheries Act Catcher Vessel BSAI Groundfish Sideboard Limits
[Amounts are in metric tons]
Species/gear | Fishery by area/season | Ratio of 1995-1997 AFA CV catch to 1995-1997 TAC | 2013 initial TAC ¹ | 2013 AFA catcher vessel sideboard limits | 2014 initial TAC ¹ | 2014 AFA catcher vessel sideboard limits
Pacific cod/Jig gear | BSAI | 0 | n/a | 0 | n/a | 0
Pacific cod/Hook-and-line CV | BSAI Jan 1-Jun 10 | 0.0006 | 236 | 0 | 237 | 0
| BSAI Jun 10-Dec 31 | 0.0006 | 227 | 0 | 228 | 0
Pacific cod pot gear CV | BSAI Jan 1-Jun 10 | 0.0006 | 9,911 | 6 | 9,945 | 6
| BSAI Sept 1-Dec 31 | 0.0006 | 9,523 | 6 | 9,555 | 6
Pacific cod CV < 60 feet LOA using hook-and-line or pot gear | BSAI | 0.0006 | 4,627 | 3 | 4,643 | 3
Pacific cod trawl gear CV | BSAI Jan 20-Apr 1 | 0.8609 | 37,971 | 32,689 | 38,099 | 32,799
| BSAI Apr 1-Jun 10 | 0.8609 | 5,644 | 4,859 | 5,663 | 4,875
| BSAI Jun 10-Nov 1 | 0.8609 | 7,697 | 6,626 | 7,723 | 6,649
Sablefish trawl gear | BS | 0.0906 | 672 | 61 | 612 | 55
| AI | 0.0645 | 455 | 29 | 428 | 28
Atka mackerel | Eastern AI/BS Jan 1-Jun 10 | 0.0032 | 7,546 | 24 | 7,367 | 24
| Eastern AI/BS Jun 10-Nov 1 | 0.0032 | 7,546 | 24 | 7,367 | 24
| Central AI Jan 1-Jun 10 | 0.0001 | 3,358 | 0 | 3,295 | 0
| Central AI Jun 10-Nov 1 | 0.0001 | 3,358 | 0 | 3,295 | 0
| Western AI Jan 1-Jun 10 | 0 | 670 | 0 | 670 | 0
| Western AI Jun 10-Nov 1 | 0 | 670 | 0 | 670 | 0
Rock sole | BSAI | 0.0341 | 82,495 | 2,813 | 82,156 | 2,802
Greenland turbot | BS | 0.0645 | 1,369 | 88 | 1,760 | 114
| AI | 0.0205 | 383 | 8 | 493 | 10
Arrowtooth flounder | BSAI | 0.069 | 21,250 | 1,466 | 21,250 | 1,466
Kamchatka flounder | BSAI | 0.069 | 8,500 | 587 | 8,500 | 587
Alaska plaice | BSAI | 0.0441 | 17,000 | 750 | 17,000 | 750
Other flatfish | BSAI | 0.0441 | 2,975 | 131 | 3,400 | 150
Flathead sole | BS | 0.0505 | 20,270 | 1,024 | 20,131 | 1,017
Pacific ocean perch | BS | 0.1 | 8,130 | 813 | 7,680 | 768
| Eastern AI | 0.0077 | 8,742 | 67 | 8,251 | 64
| Central AI | 0.0025 | 6,233 | 16 | 5,885 | 15
| Western AI | 0 | n/a | 0 | n/a | 0
Northern rockfish | BSAI | 0.0084 | 3,000 | 25 | 3,000 | 25
Shortraker rockfish | BSAI | 0.0037 | 370 | 1 | 370 | 1
Rougheye rockfish | EBS/EAI | 0.0037 | 169 | 1 | 189 | 1
| CAI/WAI | 0.0037 | 209 | 1 | 240 | 1
Other rockfish | BS | 0.0048 | 400 | 2 | 686 | 3
| AI | 0.0095 | 473 | 4 | 473 | 4
Skates | BSAI | 0.0541 | 24,000 | 1,298 | 25,000 | 1,353
Sculpins | BSAI | 0.0541 | 5,600 | 303 | 5,600 | 303
Sharks | BSAI | 0.0541 | 100 | 5 | 100 | 5
Squids | BSAI | 0.3827 | 595 | 228 | 595 | 228
Octopuses | BSAI | 0.0541 | 500 | 27 | 500 | 27
¹ Aleutians Islands Pacific ocean perch, and BSAI Atka mackerel, flathead sole, and rock sole are multiplied by the remainder of the TAC of that species after the subtraction of the CDQ reserve under § 679.20(b)(1)(ii)(C).

Halibut and crab PSC limits listed in Table 20 that are caught by AFA CVs participating in any groundfish fishery for groundfish other than pollock will accrue against the 2013 and 2014 PSC sideboard limits for the AFA CVs. Sections 679.21(d)(8) and 679.21(e)(3)(v) authorize NMFS to close directed fishing for groundfish other than pollock for AFA CVs once a 2013 or 2014 PSC sideboard limit listed in Table 20 is reached. The PSC that is caught by AFA CVs while fishing for pollock in the BSAI will accrue against the bycatch allowances annually specified for either the midwater pollock or the pollock/Atka mackerel/“other species” fishery categories under regulations at § 679.21(e)(3)(iv).

Table 20—Final 2013 and 2014 American Fisheries Act Catcher Vessel Prohibited Species Catch Sideboard Limits for the BSAI ¹
PSC species and area ¹ | Target fishery category ² | AFA catcher vessel PSC sideboard limit ratio | 2013 and 2014 PSC limit after subtraction of PSQ reserves ³ | 2013 and 2014 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth/sablefish ⁵ | n/a | n/a | 0
| Rockfish | n/a | n/a | 2
| Pollock/Atka mackerel/other species ⁶ | n/a | n/a | 5
Red king crab Zone 1 | n/a | 0.299 | 86,621 | 25,900
C. opilio COBLZ | n/a | 0.168 | 9,377,690 | 1,575,452
C. bairdi Zone 1 | n/a | 0.33 | 875,140 | 288,796
C. bairdi Zone 2 | n/a | 0.186 | 2,652,210 | 493,311
¹ Refer to § 679.2 for definitions of areas.
² Target fishery categories are defined in regulation at § 679.21(e)(3)(iv).
³ Halibut amounts are in metric tons of halibut mortality. Crab amounts are in numbers of animals.
⁴ “Other flatfish” for PSC monitoring includes all flatfish species, except for halibut (a prohibited species), flathead sole, Greenland turbot, rock sole, yellowfin sole, Kamchatka flounder, and arrowtooth flounder.
⁵ Arrowtooth for PSC monitoring includes Kamchatka flounder.
⁶ “Other species” for PSC monitoring includes skates, sculpins, sharks, squids, and octopuses.

AFA Catcher/Processor and Catcher Vessel Sideboard Directed Fishing Closures

Based upon historical catch patterns, the Regional Administrator has determined that many of the AFA C/P and CV sideboard limits listed in Tables 21 and 22 are necessary as incidental catch to support other anticipated groundfish fisheries for the 2013 and 2014 fishing years. In accordance with § 679.20(d)(1)(iv), the Regional Administrator establishes the sideboard limits listed in Tables 21 and 22 as DFAs. Because many of these DFAs will be reached before the end of the year, the Regional Administrator has determined, in accordance with § 679.20(d)(1)(iii), that NMFS is prohibiting directed fishing by listed AFA C/Ps for the species in the specified areas set out in Table 21, and directed fishing by non-exempt AFA CVs for the species in the specified areas set out in Table 22.

Table 21—Final 2013 and 2014 American Fisheries Act Listed Catcher/Processor Sideboard Directed Fishing Closures ¹
[Amounts are in metric tons]
Species | Area | Gear types | 2013 sideboard limit | 2014 sideboard limit
Sablefish trawl | BS | trawl | 11 | 10
| AI | trawl | 0 | 0
Rock sole | BSAI | all | 3,052 | 3,040
Greenland turbot | BS | all | 10 | 12
| AI | all | 2 | 2
Arrowtooth flounder | BSAI | all | 43 | 43
Kamchatka flounder | BSAI | all | 17 | 17
Alaska plaice | BSAI | all | 17 | 17
Other flatfish ² | BSAI | all | 173 | 197
Flathead sole | BSAI | all | 730 | 725
Pacific ocean perch | BS | all | 16 | 15
| Eastern AI | all | 175 | 165
| Central AI | all | 6 | 6
| Western AI | all | 36 | 34
Northern rockfish | BSAI | all | 21 | 21
Shortraker rockfish | BSAI | all | 7 | 7
Rougheye rockfish | EBS/EAI | all | 3 | 3
| CAI/WAI | all | 4 | 4
Other rockfish ³ | BS | all | 12 | 20
| AI | all | 13 | 13
Skates | BSAI | all | 192 | 200
Sculpins | BSAI | all | 45 | 45
Sharks | BSAI | all | 1 | 1
Squids | BSAI | all | 13 | 13
Octopuses | BSAI | all | 4 | 4
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, dark rockfish, shortraker rockfish, and rougheye rockfish.

Table 22—Final 2013 and 2014 American Fisheries Act Catcher Vessel Sideboard Directed Fishing Closures ¹
[Amounts are in metric tons]
Species | Area | Gear types | 2013 sideboard limit | 2014 sideboard limit
Pacific cod | BSAI | hook-and-line | 0 | 0
| BSAI | pot | 12 | 12
| BSAI | CV< 60 feet LOA | 3 | 3
| BSAI | jig | 0 | 0
Sablefish | BS | trawl | 61 | 55
| AI | trawl | 29 | 28
Atka mackerel | Eastern AI/BS | all | 48 | 48
| Central AI | all | 0 | 0
| Western AI | all | 0 | 0
Greenland turbot | BS | all | 88 | 114
| AI | all | 8 | 10
Arrowtooth flounder | BSAI | all | 1,466 | 1,466
Kamchatka flounder | BSAI | all | 587 | 587
Alaska plaice | BSAI | all | 750 | 750
Other flatfish ² | BSAI | all | 131 | 150
Flathead sole | BSAI | all | 1,024 | 1,017
Rock sole | BSAI | all | 2,813 | 2,802
Pacific ocean perch | BS | all | 813 | 768
| Eastern AI | all | 67 | 64
| Central AI | all | 16 | 15
| Western AI | all | 0 | 0
Northern rockfish | BSAI | all | 25 | 25
Shortraker rockfish | BSAI | all | 1 | 1
Rougheye rockfish | BS/EAI | all | 1 | 1
| CAI/WAI | all | 1 | 1
Other rockfish ³ | BS | all | 2 | 3
| AI | all | 4 | 4
Skates | BSAI | All | 1,298 | 1,353
Sculpins | BSAI | all | 303 | 303
Sharks | BSAI | all | 5 | 5
Squids | BSAI | all | 228 | 228
Octopuses | BSAI | all | 27 | 27
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, dark rockfish, shortraker rockfish, and rougheye rockfish.

Response to Comments

NMFS received 2 letters with five comments.

Comment 1: Due to concerns that the biomass of the Aleutian Islands Pacific cod stock may be declining and that there is a possibility that this stock is overfished, NMFS should work with the Council to separate the Aleutian Island Pacific cod management from the Bering Sea Pacific cod management.

Response: The Bering Sea and Aleutian Islands 2013 and 2014 OFL and ABC for Pacific cod are set based upon recommendations from the Plan Team and the SSC. Based upon the best available science, the SSC recommended OFL and ABC limits for the BSAI Pacific cod stock and did not believe that a separate OFL and ABC was warranted for 2013 and 2014. Based on the 2012 Pacific cod stock assessment, the 2013 and 2014 OFL and ABC for BSAI wide Pacific cod stock is not overfished or experiencing overfishing. If the SSC does recommend separate Aleutian Island Pacific cod OFLs and ABCs, NMFS will work with the Council to implement SSC recommendations.

Comment 2: There should be an exemption in the groundfish harvest specifications for small non-commerical vessels.

Response: The groundfish harvest specifications regulations that implement the FMP govern commercial fishing for groundfish in the BSAI by vessels of the United States. The groundfish harvest specifications are for commercial fishing activities. Non-commercial fishing activities are outside of the scope of this action.

Comment 3: The BSAI groundfish harvest specifications should be more concise.

Response: NMFS agrees that the groundfish harvest specifications should be concise to the extent that it is practicable. However, NMFS believes that the 2013 and 2014 groundfish harvest specifications are concise to the extent practicable.

Comment 4: NMFS should include harvesting capacity information in the BSAI groundfish harvest specifications and elaborate on the effects of these harvest specifications upon the fishing capacity.

Response: The most recent systematic assessment of fishing capacity for the BSAI groundfish fishery is Appendix 9 to the 2008 National Assessment of Excess Harvesting Capacity in Federally Managed Fisheries (http://spo.nmfs.noaa.gov/tm/spo93.pdf), which provides information for the year 2004. That assessment found that the catch of all BSAI groundfish in 2004 was 2 million mt, and that the fleet had a capacity to take 2.9 million mt. Although estimated capacity exceeded catch by about 0.9 million mt, about 0.8 million mt of this excess capacity was concentrated in one fishery for pollock (pages 333-334). There is considerable stability in the BSAI harvest specifications from year to year, not least because the total BSAI TAC is normally set at the statutory optimum yield limit of 2 million mt established by the Consolidated Appropriations Act of 2004, Public Law 108-199, Title VIII, § 803(c), and identified by the BSAI FMP. While individual species TACs vary from year to year, and new directed fisheries and the associated TAC may develop over time, fishing operators are aware of these variations, and are able to make operating plans that take this uncertainty into account. Therefore, NMFS does not expect that the 2013 and 2014 harvest specifications have any new elements that will limit harvesting capacity below the 2 million mt optimum yield limit or encourage overcapacity. NMFS notes that ongoing rationalization efforts in this fishery increase the tools available to industry to minimize the adverse economic impacts of excess capacity. Since the 2004 capacity estimates were made, NMFS implemented the Amendment 80 Program in 2008 (72 FR 52668), and the freezer longline sector formed a voluntary cooperative in 2010.

Comment 5: NMFS should move away from a single-species approach in setting OFLs and ABCs, and move towards an ecosystem-based management.

Response: NMFS agrees that there is a need to incorporate more ecosystem-based management in setting OFLs and ABCs to the extent that information is available. A goal of NMFS is to provide stronger links between fishery management and ecosystem research. The Plan Team has created ecosystem indicators with the goals of:

1. Maintaining biodiversity consistent with natural evolutionary and ecological processes, including dynamic change and variability.

2. Maintaining and restoring habitats essential for fish and their prey.

3. Maintaining system sustainability and sustainable yields for human consumption and non-extractive uses.

These indices are maintained in the SAFE report (see ADDRESSES), and each stock assessment addresses ecosystem considerations. This information is used as a component in setting annual OFLs and ABCs. However, NMFS believes the understanding of ecosystem-based management is currently insufficient to eliminate the need to set OFLs and ABCs using a single species approach.

Classification

NMFS has determined that these final harvest specifications are consistent with the FMP and with the Magnuson-Stevens Act and other applicable laws.

This action is authorized under 50 CFR 679.20 and is exempt from review under Executive Orders 12866 and 13563.

NMFS prepared an EIS that covers this action (see ADDRESSES) and made it available to the public on January 12, 2007 (72 FR 1512). On February 13, 2007, NMFS issued the Record of Decision (ROD) for the EIS. In January 2013, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2013 and 2014 groundfish harvest specifications.

A SEIS should be prepared if (1) the agency makes substantial changes in the proposed action that are relevant to environmental concerns; or (2) significant new circumstances or information exist relevant to environmental concerns and bearing on the proposed action or its impacts (40 CFR 1502.9(c)(1)). After reviewing the information contained in the SIR and SAFE reports, the Regional Administrator has determined that (1) approval of the 2013 and 2014 harvest specifications, which were set according to the preferred harvest strategy in the EIS, do not constitute a change in the action; and (2) there are no significant new circumstances or information relevant to environmental concerns and bearing on the action or its impacts. Additionally, the 2013 and 2014 harvest specifications will result in environmental impacts within the scope of those analyzed and disclosed in the EIS. Therefore, supplemental National Environmental Policy Act documentation is not necessary to implement the 2013 and 2014 harvest specifications.

Pursuant to section 604 of the Regulatory Flexibility Act (RFA), 5 U.S.C. 601, et seq., a FRFA was prepared for this action. The FRFA incorporates the Initial Regulatory Flexibility Analysis (IRFA), and includes a summary of the significant issues raised by public comments in response to the IRFA, as well as NMFS' responses to those comments. A summary of the analyses completed to support the action is also included in the FRFA.

A copy of the FRFA prepared for this final rule is available from NMFS (see ADDRESSES). A description of this action, its purpose, and its legal basis are contained at the beginning of the preamble to this final rule and are not repeated here.

NMFS published the proposed rule on December 6, 2012 (77 FR 72791). The rule was accompanied by an IRFA, which was summarized in the proposed rule. The comment period closed on January 7, 2013. No comments were received on the IRFA.

The entities directly regulated by this action are those that receive allocations of groundfish in the EEZ of the BSAI, and in parallel fisheries within State of Alaska waters, during the annual harvest specifications process. These directly regulated entities include the groundfish CVs and C/Ps active in these areas. Direct allocations of groundfish are also made to certain organizations, including the CDQ groups, AFA C/P and inshore CV sectors, Aleut Corporation, and Amendment 80 cooperatives. These entities are, therefore, also considered directly regulated.

According to the Small Business Administration, a small entity engaged in fishing activities is one that is not dominant in its field, and individually has annual revenues of $4 million or less. In 2011, there were 216 individual catcher vessels with total gross revenues less than or equal to $4 million. Many of these vessels are members in AFA inshore pollock cooperatives. However, vessels that participate in these cooperatives are considered to be large entities within the meaning of the RFA. After accounting for membership in these cooperatives, there are an estimated 112 small CVs remaining in the BSAI.

In 2011, 12 C/Ps grossed less than $4 million. Some of these vessels were affiliated through ownership by the same business firm. By 2011, the vessels in this group were also affiliated through membership in two cooperatives (the Amendment 80 “Best Use” cooperative, or the Freezer Longline Conservation Cooperative (FLCC)). Applying the 2011 firm and cooperative affiliations to these vessels, NMFS estimates that these 12 vessels currently represent six small entities.

Through the CDQ program, the Council and NMFS allocate a portion of the BSAI groundfish TACs, and halibut and crab PSC limits, to 65 eligible Western Alaska communities. These communities work through six non-profit CDQ groups, and are required to use the proceeds from the CDQ allocations to start or support activities that will result in ongoing, regionally based, commercial fishery or related businesses. The CDQ groups receive allocations through the harvest specifications process, and are directly regulated by this action, but the 65 communities are not directly regulated. Because they are nonprofit entities that are independently owned and operated, and are not dominant in their field, the CDQ groups are considered small entities for RFA purposes.

The AFA and Amendment 80 fisheries cooperatives are directly regulated because they receive allocations of TAC through the harvest specifications process. However, the FLCC, a voluntary private cooperative that became fully effective in 2010, is not considered to be directly regulated. The FLCC manages a catch share program among its members, but it does not receive an allocation under the harvest specifications. NMFS allocates TAC to the freezer longline sector, and the cooperative members voluntarily allocate this TAC among themselves via the FLCC. The AFA and Amendment 80 cooperatives are large entities, since they are affiliated with firms with joint revenues of more than $4 million.

The Aleut Corporation is an Alaska Native Corporation that receives an allocation of pollock in the Aleutian Islands. The Aleut Corporation is a holding company and evaluated according to the Small Business Administration criteria for Office or Other Holding Companies, at 13 CFR 121.201, which uses a threshold of $6 million gross annual receipts threshold for small entities. The Aleut Corporation revenues exceed this threshold, and the Aleut Corporation is considered to be a large entity. This determination follows the analysis in the RFA certification for BSAI FMP.

This action does not modify recordkeeping or reporting requirements.

The significant alternatives were those considered as alternative harvest strategies when the Council selected its preferred harvest strategy in December 2006. These included the following:

• Alternative 1: Set TAC to produce fishing mortality rates, F, that are equal to maxFABC, unless the sum of the TAC is constrained by the OY established in the FMPs. This is equivalent to setting TAC to produce harvest levels equal to the maximum permissible ABC, as constrained by OY. The term “maxFABC” refers to the maximum permissible value of FABC under Amendment 56 to the groundfish FMPs. Historically, the TAC has been set at or below the ABC; therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TAC would be set to produce harvest levels equal to the most recent 5-year average actual fishing mortality rates. For stocks with insufficient scientific information, TAC would be set equal to the most recent 5-year average actual catch. This alternative recognizes that for some stocks, catches may fall well below ABC, and recent average F may provide a better indicator of actual F than FABC does.

• Alternative 4: (1) Set TAC for rockfish species in Tier 3 at F75%. Set TAC for rockfish species in Tier 5 at F=0.5M. Set spatially explicit TAC for shortraker and rougheye rockfish in the BSAI. (2) Taking the rockfish TAC as calculated above, reduce all other TAC by a proportion that does not vary across species, so that the sum of all TAC, including rockfish TAC, is equal to the lower bound of the area OY (1,400,000 mt in the BSAI). This alternative sets conservative and spatially explicit TAC for rockfish species that are long-lived and late to mature, and sets conservative TAC for the other groundfish species.

• Alternative 5: Set TAC at zero.

Alternative 2 is the preferred alternative chosen by the Council:

Set TAC that fall within the range of ABC recommended through the Council harvest specifications process and TACs recommended by the Council. Under this scenario, F is set equal to a constant fraction of maxFABC. The recommended fractions of maxFABC may vary among species or stocks, based on other considerations unique to each. This is the method for determining TAC that has been used in the past.

Alternatives 1, 3, 4, and 5 do not meet the objectives of this action, although they have a smaller adverse economic impact on small entities than the preferred alternative. The Council rejected these alternatives as harvest strategies in 2006, and the Secretary of Commerce did so in 2007. Alternative 1 would lead to TAC limits whose sum exceeds the fishery OY, which is set out in statute and the FMP. As shown in Table 1, the sum of ABCs in 2013 and 2014 would be 2,639,317 and 2,697,498 million mt, respectively. Both of these are substantially in excess of the fishery OY for the BSAI. This result would be inconsistent with the objectives of this action, in that it would violate the Consolidated Appropriations Act of 2004, Pub. L. No. 108-199, Sec. 803(c), and the FMP for the BSAI groundfish fishery, which both set a 2,000,000 mt maximum harvest for BSAI groundfish.

Alternative 3 selects harvest rates based on the most recent 5 years' worth of harvest rates (for species in Tiers 1 through 3) or for the most recent 5 years' worth of harvests (for species in Tiers 4 through 6). This alternative is also inconsistent with the objectives of this action, because it does not take into account the most recent biological information for this fishery.

Alternative 4 would lead to significantly lower harvests of all species to reduce TAC from the upper end of the OY range in the BSAI, to its lower end. This result would lead to significant reductions in harvests of species by small entities. While reductions of this size could be associated with offsetting price increases, the size of these increases is very uncertain, and NMFS has no confidence that they would be sufficient to offset the volume decreases and leave revenues unchanged. Thus, this action would have an adverse economic impact on small entities, compared to the preferred alternative.

Alternative 5, which sets all harvests equal to zero, may also address conservation issues, but would have a significant adverse economic impact on small entities.

Impacts on marine mammals resulting from fishing activities conducted under this rule are discussed in the EIS (see ADDRESSES).

Pursuant to 5 U.S.C. 553(d)(3), the Assistant Administrator for Fisheries, NOAA, finds good cause to waive the 30-day delay in effectiveness for this rule, because delaying this rule is contrary to the public interest. Plan Team review occurred in November 2012, and Council consideration and recommendations occurred in December 2012. Accordingly, NMFS review could not begin until after the December 2012 Council meeting, and after the public had time to comment upon the proposed action. If this rule's effectiveness is delayed, fisheries that might otherwise remain open under these rules may prematurely close based on the lower 2012 and 2013 harvest specifications (77 FR 10669, February 23, 2012). If implemented immediately, this rule would allow these fisheries to continue fishing without worrying about a potential closure, because the new TAC limits are higher than the ones under which they are currently fishing. Certain fisheries, such as those for pollock and Pacific cod are intensive, fast-paced fisheries. Other fisheries, such as those for flatfish, rockfish, skates, sculpins, sharks, and octopuses, are critical as directed fisheries and as incidental catch in other fisheries. U.S. fishing vessels have demonstrated the capacity to catch the TAC allocations in these fisheries. Any delay in allocating the final TAC limits in these fisheries would cause confusion to the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries and causing them to close at an accelerated pace.

Additionally, in fisheries subject to declining sideboards, delaying this rule's effectiveness could allow some vessels to inadvertently reach or exceed their new sideboard levels. Because sideboards are intended to protect traditional fisheries in other sectors, allowing one sector to exceed its new sideboards by delaying this rule's effectiveness would effectively reduce the available catch for sectors without sideboard limits. Moreover, the new TAC and sideboard limits protect the fisheries from being overfished. Thus, the delay is contrary to the public interest in protecting traditional fisheries and fish stocks.

If the final harvest specifications are not effective by March 23, 2013, which is the start of the 2013 Pacific halibut season as specified by the IPHC, the hook-and-line sablefish fishery will not begin concurrently with the Pacific halibut IFQ season. Delayed effectiveness of this action would result in confusion for sablefish harvesters and economic harm from unnecessary discard of sablefish that are caught along with Pacific halibut, as both hook-and-line sablefish and Pacific halibut are managed under the same IFQ program. Immediate effectiveness of the final 2013 and 2014 harvest specifications will allow the sablefish IFQ fishery to begin concurrently with the Pacific halibut IFQ season. Also, the immediate effectiveness of this action is required to provide consistent management and conservation of fishery resources based on the best available scientific information. This is particularly true of those species which have lower 2013 ABC and TAC limits than those established in the 2012 and 2013 harvest specifications (77 FR 10669, February 23, 2012). Immediate effectiveness also would give the fishing industry the earliest possible opportunity to plan and conduct its fishing operations with respect to new information about TAC limits. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2013 and 2014 harvest specifications and prohibited species bycatch allowances for the groundfish fisheries of the BSAI. This action is necessary to establish harvest limits and associated management measures for groundfish during the 2013 and 2014 fishing years and to accomplish the goals and objectives of the FMP. This action directly affects all fishermen who participate in the BSAI fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: February 25, 2013.
Alan D. Risenhoover,
Director, Office of Sustainable Fisheries, performing the functions and duties of the Deputy Assistant Administrator for Regulatory Programs, National Marine Fisheries Service.

[FR Doc. 2013-04822 Filed 2-28-13; 8:45 am]

BILLING CODE 3510-22-P